DEPARTMENT OF COMMERCE

National Oceanic and Atmospheric Administration

50 CFR Part 679

[Docket No. 0910091344-9056-02]

RIN 0648-XL23

Fisheries of the Exclusive Economic Zone Off Alaska; Gulf of Alaska; 2009 and 2010 Final Harvest Specifications for Groundfish

AGENCY: National Marine Fisheries Service (NMFS), National Oceanic and Atmospheric Administration (NOAA), Commerce.

ACTION: Final rule; closures.

SUMMARY: NMFS announces 2009 and 2010 final harvest specifications, reserves and apportionments thereof, Pacific halibut prohibited species catch (PSC) limits, and associated management measures for the groundfish fishery of the Gulf of Alaska (GOA). This action is necessary to establish harvest limits and associated management measures for groundfish during the 2009 and 2010 fishing years and to accomplish the goals and objectives of the Fishery Management Plan for Groundfish of the Gulf of Alaska (FMP). The intended effect of this action is to conserve and manage the groundfish resources in the GOA in accordance with the Magnuson-Stevens Fishery Conservation and Management Act.

DATES: Effective at 1200 hrs, Alaska local time (A.l.t.), February 17, 2009, through 2400 hrs, A.l.t., December 31, 2010.

ADDRESSES: Copies of the Supplementary Information Report (SIR) to the Alaska Groundfish Harvest Specifications Final Environmental Impact Statement (Final EIS), Record of Decision (ROD), and Final Regulatory Flexibility Analysis (FRFA) prepared for this action are available from the Alaska Region, NMFS, P.O. Box 21668, Juneau, AK 99802, Attn: Ellen Sebastian, or from the Alaska Region Web site at http://www.alaskafisheries.noaa.gov. Copies of the final 2008 Stock Assessment and Fishery Evaluation (SAFE) report for the groundfish resources of the GOA, dated November 2008, are available from the North Pacific Fishery Management Council (Council), 605 West 4th Avenue, Suite 306, Anchorage, AK 99510-2252, phone 907-271-2809, or from its Web site at http://www.alaskafisheries.noaa.gov/npfmc.

FOR FURTHER INFORMATION CONTACT: Tom Pearson, Sustainable Fisheries Division, Alaska Region, 907-481-1780, or e-mail at tom.pearson@noaa.gov.

SUPPLEMENTARY INFORMATION: NMFS manages the groundfish fisheries in the exclusive economic zone (EEZ) of the GOA under the FMP. The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify and apportion the total allowable catch (TAC) for each target species and for the “other species” category, and the sum of which must be within the optimum yield (OY) range of 116,000 to 800,000 metric tons (mt). The final specifications set forth in Tables 1 through 27 of this document satisfy this requirement. For 2009, the sum of the TAC amounts is 242,727 mt. For 2010, the sum of the TAC amounts is 284,688 mt.

50 CFR 679.20(c)(1) further requires NMFS to publish and solicit public comment on proposed annual TACs, halibut PSC amounts, and seasonal allowances of pollock and inshore/offshore Pacific cod. The proposed GOA groundfish specifications and Pacific halibut PSC allowances for 2009 and 2010 were published in the Federal Register on December 2, 2008 (73 FR 73222). Comments were invited and accepted through January 2, 2009. NMFS received one letter of comment on the proposed specifications. This letter of comment is summarized in the Response to Comments section of this action. In December 2008, NMFS consulted with the Council regarding the 2009 and 2010 harvest specifications. After considering public comments received, as well as biological and economic data that were available at the Council's December 2008 meeting, NMFS is implementing the 2009 and 2010 final harvest specifications, as recommended by the Council.

Acceptable Biological Catch (ABC) and TAC Specifications

In December 2008, the Council, its Advisory Panel (AP), and its Scientific and Statistical Committee (SSC), reviewed current biological and harvest information about the condition of groundfish stocks in the GOA. This information was compiled by the Council's GOA Plan Team and was presented in the final 2008 SAFE report for the GOA groundfish fisheries, dated November 2008 (see ADDRESSES). The SAFE report contains a review of the latest scientific analyses and estimates of each species' biomass and other biological parameters, as well as summaries of the available information on the GOA ecosystem and the economic condition of the groundfish fisheries off Alaska. From these data and analyses, the Plan Team estimates an ABC for each species or species category.

The final ABC levels are based on the best available biological and socioeconomic information, including projected biomass trends, information on assumed distribution of stock biomass, and revised methods used to calculate stock biomass. The FMP specifies the formulas, or tiers, to be used to compute ABCs and overfishing levels (OFLs). The formulas applicable to a particular stock or stock complex are determined by the level of reliable information available to fisheries scientists. This information is categorized into a successive series of six tiers with tier one representing the highest level of information quality available and tier six the lowest level of information quality available.

The final TAC recommendations were based on the ABCs as adjusted for other biological and socioeconomic considerations, including maintaining the sum of all TACs within the required OY range of 116,000 to 800,000 mt. The Council adopted the AP's TAC recommendations. The Council recommended TACs for 2009 and 2010 that are equal to ABCs for pollock, deep-water flatfish, rex sole, sablefish, Pacific ocean perch, shortraker rockfish, rougheye rockfish, northern rockfish, pelagic shelf rockfish, thornyhead rockfish, demersal shelf rockfish, big skate, longnose skate, and other skates. The Council recommended TACs for 2009 and 2010 that are less than the ABCs for Pacific cod, flathead sole, shallow-water flatfish, arrowtooth flounder, other rockfish, Atka mackerel, and “other species.” None of the Council's recommended TACs for 2009 and 2010 exceeds the final ABC for any species or species category. The 2009 and 2010 harvest specifications approved by the Secretary of Commerce (Secretary) are unchanged from those recommended by the Council and are consistent with the preferred harvest strategy alternative in the Final EIS. NMFS finds that the Council's recommended ABCs, OFLs, and TACs are consistent with the biological condition of the groundfish stocks as described in the 2008 SAFE report and approved by the Council. NMFS also finds that the Council's recommendations for OFL, ABC, and TAC amounts are consistent with the biological condition of groundfish stocks as adjusted for other biological and socioeconomic considerations, including maintaining the total TAC within the OY range. NMFS reviewed the Council's recommended TAC specifications and apportionments and approves these specifications under 50 CFR 679.20(c)(3)(ii). The apportionment of TAC amounts among gear types, processing sectors, and seasons is discussed below.

Tables 1 and 2 list the final 2009 and 2010 OFLs, ABCs, TACs, and area apportionments of groundfish in the GOA. The sums of the 2009 and 2010 ABCs are 516,055 mt and 562,762 mt, respectively, which are lower in 2009 and higher in 2010 than the 2008 ABC sum of 536,201 mt (73 FR 10562, February 27, 2008).

Specification and Apportionment of TAC Amounts

As in 2008, the SSC and Council recommended that the method of apportioning the sablefish ABC among management areas in 2009 and 2010 include commercial fishery and survey data. NMFS stock assessment scientists believe the use of unbiased commercial fishery data reflecting catch-per-unit-effort provides a desirable input for stock distribution assessments. NMFS evaluates the use of commercial fishery data annually to ensure unbiased information is included in stock distribution models. The Council's recommendation for sablefish area apportionments also takes into account the prohibition on the use of trawl gear in the Southeast Outside (SEO) District of the Eastern Regulatory Area and makes available 5 percent of the combined Eastern Regulatory Area ABCs to trawl gear for use as incidental catch in other directed groundfish fisheries in the West Yakutat (WYK) District (§ 679.20(a)(4)(i)).

Since the inception of a State of Alaska (State) managed pollock fishery in Prince William Sound (PWS), the GOA Plan Team has recommended the guideline harvest level (GHL) for the pollock fishery in PWS be deducted from the ABC for the western stock of pollock in the GOA in the Western/Central/West Yakutat (W/C/WYK) Area. For the 2009 and 2010 pollock fisheries in PWS, the State's GHL is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (50 CFR 679.23(d)(2)(i) through (iv) and 679.20(a)(5)(iii)(B)).

The SSC, AP, and Council adopted the Plan Team's OFL and ABC recommendations for all groundfish species, complexes, and categories.

The SSC, AP, and Council recommended apportionment of the ABC for Pacific cod in the GOA among regulatory areas based on the three most recent NMFS summer trawl surveys.

The 2009 and 2010 Pacific cod TACs are affected by the State's fishery for Pacific cod in State waters in the Central and Western Regulatory Areas, as well as in PWS. The SSC, AP, and Council recommended that the sum of all State and Federal water Pacific cod removals not exceed the ABC. Accordingly, the Council recommended reducing the 2009 and 2010 Pacific cod TACs from the ABCs in the Central and Western Regulatory Areas to account for State GHLs. Therefore, the 2009 Pacific cod TACs are less than the ABCs by the following amounts: (1) Eastern GOA, 221 mt; (2) Central GOA, 7,880 mt; and (3) Western GOA, 5,392 mt; the 2010 Pacific cod TACs are less than the ABCs by the following amounts: (1) Eastern GOA, 318 mt; (2) Central GOA, 11,329 mt; and (3) Western GOA, 7,751 mt. These amounts reflect the sum of the State's 2009 and 2010 GHLs in these areas, which are 10 percent, 25 percent, and 25 percent of the Eastern, Central, and Western GOA ABCs, respectively. The percentages of the ABCs used to calculate the 2009 and 2010 GHLs for the State managed Pacific cod fisheries are unchanged from 2008.

NMFS also is establishing seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (50 CFR 679.23(d)(3) and 679.20(a)(12)).

As in 2008, NMFS establishes for 2009 and 2010 an A season directed fishing allowance (DFA) for the Pacific cod fisheries in the GOA based on the management area TACs minus the recent average A season incidental catch of Pacific cod in each management area before June 10 (§ 679.20(d)(1)). The DFA and incidental catch before June 10 will be managed such that total harvest in the A season will be no more than 60 percent of the annual TAC. Incidental catch taken after June 10 will continue to accrue against the B season TAC. This action meets the intent of the Steller Sea Lion Protection Measures by achieving temporal dispersion of the Pacific cod removals and by reducing the likelihood of harvest exceeding 60 percent of the annual TAC in the A season (January 1 through June 10 for hook-and-line, pot, and jig gear; January 20 through June 10 for trawl gear). The seasonal apportionments of the annual Pacific cod TAC are discussed in greater detail below.

Other Actions Affecting the 2009 and 2010 Harvest Specifications

Amendment 79 to the GOA FMP was approved by the Secretary on August 20, 2008 (73 FR 49963, August 25, 2008). Amendment 79 requires that aggregate OFL, ABC, and TAC levels for the “other species” category be established as part of the annual groundfish harvest specification process. Previously only an annual TAC was established. NMFS is implementing an OFL of 8,720 mt and an ABC of 6,540 mt for 2009 and 2010 (see Tables 1 and 2). Stock assessments for the major taxonomic groups which comprise the “other species” category (sharks, sculpins, squid, and octopus) are included in 2008 SAFE report.

Following the publication of a proposed rule (73 FR 55010, September 24, 2008) and comment period to implement Amendment 77 to the GOA FMP the Secretary approved Amendment 77 on December 15, 2008 and NMFS published a final rule implementing the amendment on December 31, 2008 (73 FR 80307). Amendment 77 removed dark rockfish from the pelagic shelf rockfish (PSR) complex in the GOA FMP in order to allow the State of Alaska (State) to assume management of dark rockfish beginning in 2009. This action was necessary to allow the State to implement more responsive, regionally-based management measures than are currently possible under the FMP. The effect of removing dark rockfish from the PSR complex is to reduce the OFLs, ABCs, and TACs for the PSR complex in these harvest specifications. Compared to the final 2008 harvest specifications the OFL is reduced from 6,400 mt in 2008 to 5,803 mt in 2009 and to 5,420 mt in 2010. Compared to the final 2008 harvest specifications the ABCs and TACs are reduced from 5,227 mt in 2008 to 4,781 mt in 2009 and to 4,465 mt in 2010 (see Tables 1 and 2). The final 2008 SAFE report accounted for the removal of dark rockfish from the PSR complex. Based on the approval of Amendment 77, the Council recommended final 2009 and 2010 harvest specifications for GOA groundfish.

Changes From the Proposed 2009 and 2010 Harvest Specifications in the GOA

In October 2008, the Council's recommendations for the proposed 2009 and 2010 harvest specifications (73 FR 73222, December 2, 2008) were based largely upon information contained in the final 2007 SAFE report for the GOA groundfish fisheries, dated November 2007 (see ADDRESSES). The Council recommended that the proposed OFLs, ABCs, and TACs established for the groundfish fisheries in 2009 (73 FR 10562, February 27, 2008 see Table 2) be rolled over to 2009 and 2010, with the exception of sablefish and “other species” pending completion and review of the 2008 SAFE report at its December 2008 meeting.

The 2008 SAFE report, which was not available when the Council made its recommendations in October 2008, contains the best and most recent scientific information on the condition of the groundfish stocks. This report was considered in December 2008 by the Council when it made recommendations for the final 2009 and 2010 harvest specifications. Based on the final 2008 SAFE report, the sum of the 2009 final TACs for the GOA (242,727 mt) is 36,537 mt lower than the sum of the proposed 2009 TACs (279,264 mt). The largest 2009 decreases occurred for pollock, from 78,170 mt to 49,900 mt (36 percent decrease); for Pacific cod, from 50,269 mt to 41,807 mt (17 percent decrease); for sablefish, from 11,633 mt to 11,160 mt (4 percent decrease); for pelagic shelf rockfish, from 5,140 mt to 4,781 mt (7 percent decrease); and for demersal shelf rockfish, from 382 mt to 362 mt (5 percent decrease). The largest increases occurred for rex sole, from 8,468 mt to 8,996 mt (6 percent increase) and for Atka mackerel, from 1,500 mt to 2,000 mt (33 percent increase). Other increases or decreases in 2009 are within 2 percent of the proposed specifications.

The sum of the 2010 final TACs for the GOA (284,688 mt) is 5,424 mt higher than the sum of the proposed 2010 TACs (279,264 mt). The largest 2010 decreases occurred for pollock, from 78,170 mt to 74,330 mt (5 percent decrease); for sablefish, from 11,633 mt to 10,337 mt (11 percent decrease), for pelagic shelf rockfish, from 5,140 mt to 4,465 (13 percent decrease); and for demersal shelf rockfish, from 382 mt to 362 mt (5 percent decrease). The largest increases occurred for Pacific cod from 50,269 mt to 60,102 (20 percent increase); for deep-water flatfish from 9,172 mt to 9,793 (7 percent increase); for rex sole, from 8,468 mt to 8,827 mt (4 percent increase); and for Atka mackerel, from 1,500 mt to 2,000 mt (33 percent increase). Other increases or decreases in 2010 are within 2 percent of the proposed specifications.

Compared to the proposed 2009 and 2010 harvest specifications, the Council's final 2009 and 2010 TAC recommendations increase fishing opportunities for species for which the Council had sufficient information to raise TAC levels. For 2009, these include rex sole, Pacific ocean perch, and Atka mackerel. For 2010, TACs were increased for Pacific cod, deep-water flatfish, rex sole, flathead sole, Pacific ocean perch, and Atka mackerel. Conversely, the Council reduced TAC levels to provide greater protection for some species. In 2009, TACs were reduced for pollock, Pacific cod, sablefish, pelagic shelf rockfish, and demersal shelf rockfish. In 2010, TACs were again reduced for pollock, sablefish, pelagic shelf rockfish, and demersal shelf rockfish. The changes in the final rule from the proposed rule are based on the most recent scientific information and implement the harvest strategy described in the proposed rule for the harvest specifications. Tables 1 and 2 list the 2009 and 2010 final OFL, ABC, and TAC amounts for GOA groundfish, respectively.

Table 1—Final 2009 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area/district ¹ | ABC | TAC | OFL
Pollock ² | Shumagin (610) | 15,249 | 15,249 | n/a
| Chirikof (620) | 14,098 | 14,098 | n/a
| Kodiak (630) | 11,058 | 11,058 | n/a
| WYK (640) | 1,215 | 1,215 | n/a
Subtotal | W/C/WYK | 41,620 | 41,620 | 58,590
| SEO (650) | 8,280 | 8,280 | 11,040
Total |  | 49,900 | 49,900 | 69,630
Pacific cod ³ | W | 21,567 | 16,175 | n/a
| C | 31,521 | 23,641 | n/a
| E | 2,212 | 1,991 | n/a
Total |  | 55,300 | 41,807 | 66,600
Flatfish ⁴ (deep-water) | W | 706 | 706 | n/a
| C | 6,927 | 6,927 | n/a
| WYK | 997 | 997 | n/a
| SEO | 538 | 538 | n/a
Total |  | 9,168 | 9,168 | 11,578
Rex sole | W | 1,007 | 1,007 | n/a
| C | 6,630 | 6,630 | n/a
| WYK | 513 | 513 | n/a
| SEO | 846 | 846 | n/a
Total |  | 8,996 | 8,996 | 11,756
Flathead sole | W | 13,010 | 2,000 | n/a
| C | 29,273 | 5,000 | n/a
| WYK | 3,531 | 3,531 | n/a
| SEO | 650 | 650 | n/a
Total |  | 46,464 | 11,181 | 57,911
Flatfish ⁵ (shallow-water) | W | 26,360 | 4,500 | n/a
| C | 29,873 | 13,000 | n/a
| WYK | 3,333 | 3,333 | n/a
| SEO | 1,423 | 1,423 | n/a
Total |  | 60,989 | 22,256 | 74,364
Arrowtooth flounder | W | 30,148 | 8,000 | n/a
| C | 164,251 | 30,000 | n/a
| WYK | 14,908 | 2,500 | n/a
| SEO | 12,205 | 2,500 | n/a
Total |  | 221,512 | 43,000 | 261,022
Sablefish ⁶ | W | 1,640 | 1,640 | n/a
| C | 4,990 | 4,990 | n/a
| WYK | 1,784 | 1,784 | n/a
| SEO | 2,746 | 2,746 | n/a
Subtotal | E (WYK and SEO) | 4,530 | 4,530 | n/a
Total |  | 11,160 | 11,160 | 13,190
Pacific ocean perch ⁷ | W | 3,713 | 3,713 | 4,409
| C | 8,246 | 8,246 | 9,790
| WYK | 1,108 | 1,108 | n/a
| SEO | 2,044 | 2,044 | n/a
Subtotal | E (WYK and SEO) | 3,152 | 3,152 | 3,741
Total |  | 15,111 | 15,111 | 17,940
Shortraker rockfish ⁸ | W | 120 | 120 | n/a
| C | 315 | 315 | n/a
| E | 463 | 463 | n/a
Total |  | 898 | 898 | 1,197
Rougheye rockfish ⁹ | W | 125 | 125 | n/a
| C | 833 | 833 | n/a
| E | 326 | 326 | n/a
Total |  | 1,284 | 1,284 | 1,545
Other rockfish ¹⁰ ¹¹ | W | 357 | 357 | n/a
| C | 569 | 569 | n/a
| WYK | 604 | 604 | n/a
| SEO | 2,767 | 200 | n/a
Total |  | 4,297 | 1,730 | 5,624
Northern rockfish ¹¹ ¹² | W | 2,054 | 2,054 | n/a
| C | 2,308 | 2,308 | n/a
| E | 0 | 0 | n/a
Total |  | 4,362 | 4,362 | 5,204
Pelagic shelf rockfish ¹³ | W | 819 | 819 | n/a
| C | 3,404 | 3,404 | n/a
| WYK | 234 | 234 | n/a
| SEO | 324 | 324 | n/a
Total |  | 4,781 | 4,781 | 5,803
Thornyhead rockfish | W | 267 | 267 | n/a
| C | 860 | 860 | n/a
| E | 783 | 783 | n/a
Total |  | 1,910 | 1,910 | 2,540
Big skates ¹⁴ | W | 632 | 632 | n/a
| C | 2,065 | 2,065 | n/a
| E | 633 | 633 | n/a
Total |  | 3,330 | 3,330 | 4,439
Longnose skates ¹⁵ | W | 78 | 78 | n/a
| C | 2,041 | 2,041 | n/a
| E | 768 | 768 | n/a
Total |  | 2,887 | 2,887 | 3,849
Other skates ¹⁶ | GW | 2,104 | 2,104 | 2,806
Demersal shelf rockfish ¹⁷ | SEO | 362 | 362 | 580
Atka mackerel | GW | 4,700 | 2,000 | 6,200
Other species ¹⁸ | GW | 6,540 | 4,500 | 8,720
Total |  | 516,055 | 242,727 | 632,498
¹ Regulatory areas and districts are defined at 50 CFR 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. During the A season, the apportionment is based on an adjusted estimate of the relative distribution of pollock biomass of approximately 32 percent, 43 percent, and 25 percent in Statistical Areas 610, 620, and 630, respectively. During the B season, the apportionment is based on the relative distribution of pollock biomass at 32 percent, 54 percent, and 14 percent in Statistical Areas 610, 620, and 630, respectively. During the C and D seasons, the apportionment is based on the relative distribution of pollock biomass at 43 percent, 21 percent, and 35 percent in Statistical Areas 610, 620, and 630, respectively. Tables 5 and 6 list the 2009 and 2010 seasonal apportionments of pollock. In the WYK District and SEO Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component in the Western and Central Regulatory Areas of the GOA. Tables 7 and 8 list the 2009 and 2010 seasonal apportionments and component allocations of the Pacific cod TAC.
⁴ “Deep-water flatfish” means Dover sole, Greenland turbot, and deepsea sole.
⁵ “Shallow-water flatfish” means flatfish not including “deep water flatfish,” flathead sole, rex sole, or arrowtooth flounder.
⁶ Sablefish is allocated to trawl and hook-and-line gears for 2008 and to trawl gear in 2009. Tables 3 and 4 list the 2008 and 2009 allocations of sablefish.
⁷ “Pacific ocean perch” means Sebastes alutus.
⁸ “Shortraker rockfish” means Sebastes borealis.
⁹ “Rougheye rockfish” means Sebastes aleutianus (rougheye) and Sebastes melanostictus (blackspotted).
¹⁰ “Other rockfish” in the Western and Central Regulatory Areas and in the WYK District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis. The 2 mt ABC for northern rockfish in the Eastern Regulatory Area has been combined with the ABC for slope rockfish in the WYK District.
¹³ “Pelagic shelf rockfish” means Sebastes variabilis (dusky), S. entomelas (widow), and S. flavidus (yellowtail).
¹⁴ Big skate means Raja binoculata.
¹⁵ Longnose skate means Raja rhina.
¹⁶ Other skates means Bathyraja spp.
¹⁷ “Demersal shelf rockfish” means Sebastes pinniger (canary), S. nebulosus (china), S. caurinus (copper), S. maliger (quillback), S. helvomaculatus (rosethorn), S. nigrocinctus (tiger), and S. ruberrimus (yelloweye).
¹⁸ “Other species” means sculpins, sharks, squid, and octopus.

Table 2—Final 2010 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area/district ¹ | ABC | TAC | OFL
Pollock ² | Shumagin (610) | 24,199 | 24,199 | n/a
| Chirikof (620) | 22,374 | 22,374 | n/a
| Kodiak (630) | 17,548 | 17,548 | n/a
| WYK (640) | 1,929 | 1,929 | n/a
Subtotal | W/C/WYK | 66,050 | 66,050 | 90,920
| SEO (650) | 8,280 | 8,280 | 11,040
Total |  | 74,330 | 74,330 | 101,960
Pacific cod ³ | W | 31,005 | 23,254 | n/a
| C | 45,315 | 33,986 | n/a
| E | 3,180 | 2,862 | n/a
Total |  | 79,500 | 60,102 | 126,000
Flatfish ⁴ (deep-water) | W | 747 | 747 | n/a
| C | 7,405 | 7,405 | n/a
| WYK | 1,066 | 1,066 | n/a
| SEO | 575 | 575 | n/a
Total |  | 9,793 | 9,793 | 12,367
Rex sole | W | 988 | 988 | n/a
| C | 6,506 | 6,506 | n/a
| WYK | 503 | 503 | n/a
| SEO | 830 | 830 | n/a
Total |  | 8,827 | 8,827 | 11,535
Flathead sole | W | 13,342 | 2,000 | n/a
| C | 30,021 | 5,000 | n/a
| WYK | 3,622 | 3,622 | n/a
| SEO | 667 | 667 | n/a
Total |  | 47,652 | 11,289 | 59,349
Flatfish ⁵ (shallow-water) | W | 26,360 | 4,500 | n/a
| C | 29,873 | 13,000 | n/a
| WYK | 3,333 | 3,333 | n/a
| SEO | 1,423 | 1,423 | n/a
Total |  | 60,989 | 22,256 | 74,364
Arrowtooth flounder | W | 29,843 | 8,000 | n/a
| C | 162,591 | 30,000 | n/a
| WYK | 14,757 | 2,500 | n/a
| SEO | 12,082 | 2,500 | n/a
Total |  | 219,273 | 43,000 | 258,397
Sablefish ⁶ | W | 1,523 | 1,523 | n/a
| C | 4,625 | 4,625 | n/a
| WYK | 1,645 | 1,645 | n/a
| SEO | 2,544 | 2,544 | n/a
Subtotal | E (WYK and SEO) | 4,189 | 4,189 | n/a
Total |  | 10,337 | 10,337 | 12,321
Pacific ocean perch ⁷ | W | 3,710 | 3,710 | 4,405
| C | 8,239 | 8,239 | 9,782
| WYK | 1,107 | 1,107 | n/a
| SEO | 2,042 | 2,042 | n/a
Subtotal | E (WYK and SEO) | 3,149 | 3,149 | 3,738
Total |  | 15,098 | 15,098 | 17,925
Shortraker rockfish ⁸ | W | 120 | 120 | n/a
| C | 315 | 315 | n/a
| E | 463 | 463 | n/a
Total |  | 898 | 898 | 1,197
Rougheye rockfish ⁹ | W | 126 | 126 | n/a
| C | 842 | 842 | n/a
| E | 329 | 329 | n/a
Total |  | 1,297 | 1,297 | 1,562
Other rockfish ¹⁰ ¹¹ | W | 357 | 357 | n/a
| C | 569 | 569 | n/a
| WYK | 604 | 604 | n/a
| SEO | 2,767 | 200 | n/a
Total |  | 4,297 | 1,730 | 5,624
Northern rockfish ¹¹ ¹² | W | 1,965 | 1,965 | n/a
| C | 2,208 | 2,208 | n/a
| E | 0 | 0 | n/a
Total |  | 4,173 | 4,173 | 4,979
Pelagic shelf rockfish ¹³ | W | 765 | 765 | n/a
| C | 3,179 | 3,179 | n/a
| WYK | 219 | 219 | n/a
| SEO | 302 | 302 | n/a
Total |  | 4,465 | 4,465 | 5,420
Thornyhead rockfish | W | 267 | 267 | n/a
| C | 860 | 860 | n/a
| E | 783 | 783 | n/a
Total |  | 1,910 | 1,910 | 2,540
Big skates ¹⁴ | W | 632 | 632 | n/a
| C | 2,065 | 2,065 | n/a
| E | 633 | 633 | n/a
Total |  | 3,330 | 3,330 | 4,439
Longnose skates ¹⁵ | W | 78 | 78 | n/a
| C | 2,041 | 2,041 | n/a
| E | 768 | 768 | n/a
Total |  | 2,887 | 2,887 | 3,849
Other skates ¹⁶ | GW | 2,104 | 2,104 | 2,806
Demersal shelf rockfish ¹⁷ | SEO | 362 | 362 | 580
Atka mackerel | GW | 4,700 | 2,000 | 6,200
Other species ¹⁸ | GW | 6,540 | 4,500 | 8,720
Total |  | 562,762 | 284,688 | 722,134
¹ Regulatory areas and districts are defined at 50 CFR 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. During the A season, the apportionment is based on an adjusted estimate of the relative distribution of pollock biomass of approximately 32 percent, 43 percent, and 25 percent in Statistical Areas 610, 620, and 630, respectively. During the B season, the apportionment is based on the relative distribution of pollock biomass at 32 percent, 54 percent, and 14 percent in Statistical Areas 610, 620, and 630, respectively. During the C and D seasons, the apportionment is based on the relative distribution of pollock biomass at 43 percent, 21 percent, and 35 percent in Statistical Areas 610, 620, and 630, respectively. Tables 5 and 6 list the 2009 and 2010 seasonal apportionments of pollock. In the WYK District and SEO Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component in the Western and Central Regulatory Areas of the GOA. Tables 7 and 8 list the 2009 and 2010 seasonal apportionments and component allocations of the Pacific cod TAC.
⁴ “Deep-water flatfish” means Dover sole, Greenland turbot, and deepsea sole.
⁵ “Shallow-water flatfish” means flatfish not including “deep water flatfish,” flathead sole, rex sole, or arrowtooth flounder.
⁶ Sablefish is allocated to trawl and hook-and-line gears for 2008 and to trawl gear in 2009. Tables 3 and 4 list the 2008 and 2009 allocations of sablefish.
⁷ “Pacific ocean perch” means Sebastes alutus.
⁸ “Shortraker rockfish” means Sebastes borealis.
⁹ “Rougheye rockfish” means Sebastes aleutianus (rougheye) and Sebastes melanostictus (blackspotted).
¹⁰ “Other rockfish” in the Western and Central Regulatory Areas and in the WYK District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis. The 2 mt ABC for northern rockfish in the Eastern Regulatory Area has been combined with the ABC for slope rockfish in the WYK District.
¹³ “Pelagic shelf rockfish” means Sebastes variabilis (dusky), S. entomelas (widow), and S. flavidus (yellowtail).
¹⁴ Big skate means Raja binoculata.
¹⁵ Longnose skate means Raja rhina.
¹⁶ Other skates means Bathyraja spp.
¹⁷ “Demersal shelf rockfish” means Sebastes pinniger (canary), S. nebulosus (china), S. caurinus (copper), S. maliger (quillback), S. helvomaculatus (rosethorn), S. nigrocinctus (tiger), and S. ruberrimus (yelloweye).
¹⁸ “Other species” means sculpins, sharks, squid, and octopus.

Apportionment of Reserves

Section 679.20(b)(2) requires 20 percent of each TAC for pollock, Pacific cod, flatfish, and the “other species” category be set aside in reserves for possible apportionment at a later date during the fishing year. In 2008, NMFS reapportioned all the reserves in the final harvest specifications. For 2009 and 2010, NMFS proposed reapportionment of all the reserves in the proposed 2009 and 2010 harvest specifications published in the Federal Register on December 2, 2008 (73 FR 73222). NMFS received no public comments on the proposed reapportionments. For the final 2009 and 2010 harvest specifications, NMFS reapportioned as proposed all the reserves for pollock, Pacific cod, flatfish, and “other species.” Specifications of TAC shown in Tables 1 and 2 reflect reapportionment of reserve amounts for these species and species groups.

Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(1)). In recognition of the trawl ban in the SEO District of the Eastern Regulatory Area, the Council recommended and NMFS concurs with the allocation of 5 percent of the combined Eastern Regulatory Area sablefish TAC to trawl gear in the WYK District and the remainder of the WYK sablefish TAC be available to vessels using hook-and-line gear. As a result, NMFS allocates 100 percent of the sablefish TAC in the SEO District to vessels using hook-and-line gear. The Council recommended that the hook-and-line sablefish TAC be established annually to ensure that the Individual Fishery Quota (IFQ) fishery is conducted concurrent with the halibut IFQ fishery and is based on the most recent survey information. This recommendation results in an allocation of 227 mt to trawl gear and 1,557 mt to hook-and-line gear in the WYK District in 2009, an allocation of 2,746 mt to hook-and-line gear in the SEO District in 2009, and 209 mt to trawl gear in the WYK District in 2010. Table 3 lists the allocations of the 2009 sablefish TACs to hook-and-line and trawl gear. Table 4 lists the allocations of the 2010 sablefish TACs to trawl gear. The Council recommended that only a trawl sablefish TAC be established for two years so that retention of incidental catch of sablefish by trawl gear could commence in January in the second year of the groundfish harvest specifications. However, since there is an annual assessment for sablefish and the final specifications are expected to be published before the IFQ season begins, the industry and Council recommended that the sablefish TAC be set on an annual basis so that the best and most recent scientific information could be considered in recommending the ABCs and TACs. Since sablefish is on bycatch status for trawl gear the entire fishing year and given that fishing for groundfish is prohibited prior to January 20, it is not likely that the sablefish allocation to trawl gear would be reached before the effective date of the final harvest specifications.

Table 3—Final 2009 Sablefish TAC Specifications in the Gulf of Alaska and Allocations to Hook-and-Line and Trawl Gear
[Values are rounded to the nearest metric ton]
Area/District | TAC | Hook-and-line apportionment | Trawl apportionment
Western | 1,640 | 1,312 | 328
Central | 4,990 | 3,992 | 998
West Yakutat ¹ | 1,784 | 1,557 | 227
Southeast Outside | 2,746 | 2,746 | 0
Total | 11,160 | 9,607 | 1,553
¹ Represents an allocation of 5 percent of the combined Eastern Regulatory Area sablefish TAC to trawl gear in the WYK District.

Table 4—Final 2010 Sablefish TAC Specifications in the Gulf of Alaska and Allocation to Trawl Gear
[Values are rounded to the nearest metric ton]
Area/District | TAC | Hook-and-line apportionment¹ | Trawl apportionment
Western | 1,523 | n/a | 305
Central | 4,625 | n/a | 925
West Yakutat ² | 1,645 | n/a | 209
Southeast Outside | 2,544 | n/a | 0
Total | 10,337 | 0 | 1,439
¹ The Council recommended that specifications for the hook-and-line gear sablefish Individual Fishery Quota fisheries be limited to 1 year.
² Represents an allocation of 5 percent of the combined Eastern Regulatory Area sablefish TAC to trawl gear in the WYK District.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630. In the A and B seasons, the apportionments are in proportion to the distribution of pollock biomass based on the four most recent NMFS winter surveys. In the C and D seasons, the apportionments are in proportion to the distribution of pollock biomass based on the four most recent NMFS summer surveys. For 2009 and 2010, the Council recommends and NMFS approves averaging the winter and summer distribution of pollock in the Central Regulatory Area for the A season. The average is intended to reflect the distribution of pollock and the performance of the fishery in the area during the A season for the 2009 and 2010 fishing years. Within any fishing year, the amount by which a seasonal allowance is underharvested or overharvested may be added to, or subtracted from, subsequent seasonal allowances in a manner to be determined by the Regional Administrator. The rollover amount of unharvested pollock is limited to 20 percent of the seasonal apportionment for the statistical area. Any unharvested pollock above the 20 percent limit could be further distributed to the other statistical areas, in proportion to the estimated biomass in the subsequent season in those statistical areas (§ 679.20(a)(5)(iv)(B)). The WYK and SEO District pollock TACs of 1,215 mt and 8,280 mt, respectively, in 2009, and 1,929 mt and 8,280 mt, respectively, in 2010, are not allocated by season.

Section 679.20(a)(6)(i) requires the allocation of 100 percent of the pollock TAC in all regulatory areas and all seasonal allowances to vessels catching pollock for processing by the inshore component after subtracting amounts projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed by § 679.20(e) and (f). At this time, these incidental catch amounts are unknown and will be determined during the fishing year.

The 2009 and 2010 seasonal biomass distribution of pollock in the Western and Central Regulatory Areas, area apportionments, and seasonal apportionments for the A, B, C, and D seasons are summarized in Tables 5 and 6, except that amounts of pollock for processing by the inshore and offshore components are not shown.

Table 5—Final 2009 Distribution of Pollock in the Central and Western Regulatory Areas of the Gulf of Alaska; Seasonal Biomass Distribution, Area Apportionments; and Seasonal Allowances of Annual TAC
[Values are rounded to the nearest metric ton]
Season | Shumagin (Area 610) | Chirikof (Area 620) | Kodiak (Area 630) | Total ¹
A | 3,234 (32.01%) | 4,365 (43.21%) | 2,503 (24.78%) | 10,102 (100%)
B | 3,233 (32.01%) | 5,413 (53.59%) | 1,455 (14.90%) | 10,101 (100%)
C | 4,391 (43.47%) | 2,160 (21.38%) | 3,550 (35.15%) | 10,101 (100%)
D | 4,391 (43.47%) | 2,160 (21.38%) | 3,550 (35.15%) | 10,101 (100%)
Annual Total | 15,249 | 14,098 | 11,058 | 40,405
¹ The WYK and SEO District pollock TACs are not allocated by season and are not included in the total pollock TACs shown in this table. Note: As established by § 679.23(d)(2)(i) through (iv), the A, B, C, and D season allowances are available from January 20 to March 10, March 10 to May 31, August 25 to October 1, and October 1 to November 1, respectively. The amounts of pollock for processing by the inshore and offshore components are not shown in this table.

Table 6—Final 2010 Distribution of Pollock in the Central and Western Regulatory Areas of the Gulf of Alaska; Seasonal Biomass Distribution, Area Apportionments; and Seasonal Allowances of Annual TAC
[Values are rounded to the nearest metric ton]
Season | Shumagin (Area 610) | Chirikof (Area 620) | Kodiak (Area 630) | Total ¹
A | 5,132 (32.01%) | 6,927 (43.21%) | 3,972 (24.78%) | 16,031 (100%)
B | 5,131 (32.01%) | 8,591 (53.39%) | 2,308 (14.40%) | 16,030 (100%)
C | 6,968 (43.47%) | 3,428 (21.38%) | 5,634 (35.15%) | 16,030 (100%)
D | 6,968 (43.47%) | 3,428 (21.38%) | 5,634 (35.15%) | 16,030 (100%)
Annual Total | 24,199 | 22,374 | 17,548 | 64,121
¹ The WYK and SEO District pollock TACs are not allocated by season and are not included in the total pollock TACs shown in this table.
Note: As established by § 679.23(d)(2)(i) through (iv), the A, B, C, and D season allowances are available from January 20 to March 10, March 10 to May 31, August 25 to October 1, and October 1 to November 1, respectively. The amounts of pollock for processing by the inshore and offshore components are not shown in this table.

Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtracting incidental catch from the A season, 60 percent of the annual TAC will be available as a DFA during the A season for the inshore and offshore components. The remaining 40 percent of the annual TAC will be available for harvest during the B season. The seasonal allocations will be apportioned between the inshore and offshore components, as provided in § 679.20(a)(6)(ii). Under § 679.20(a)(11)(ii), any overage or underage of the Pacific cod allowance from the A season may be subtracted from or added to the subsequent B season allowance.

Section 679.20(a)(6)(ii) requires allocation of the TAC apportionments of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Tables 7 and 8 lists the seasonal apportionments and allocations of the final 2009 and 2010 Pacific cod TACs, respectively.

Table 7—Final 2009 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
| Western | 16,175 | 14,558 | 1,617
A season (60%) |  | 9,705 | 8,735 | 970
B season (40%) |  | 6,470 | 5,823 | 647
| Central | 23,641 | 21,277 | 2,364
A season (60%) |  | 14,185 | 12,767 | 1,418
B season (40%) |  | 9,456 | 8,510 | 946
| Eastern | 1,991 | 1,792 | 199
Total |  | 41,807 | 37,627 | 4,180

Table 8—Final 2010 Seasonal Apportionments and Allocation of Pacific Cod TAC Amounts in the Gulf of Alaska; Allocations for Processing by the Inshore and Offshore Components
[Values are rounded to the nearest metric ton]
Season | Regulatory area | TAC | Component allocation: Inshore (90%) | Component allocation: Offshore (10%)
| Western | 23,254 | 20,929 | 2,325
A season (60%) |  | 13,952 | 12,557 | 1,395
B season (40%) |  | 9,302 | 8,371 | 930
| Central | 33,986 | 30,587 | 3,399
A season (60%) |  | 20,392 | 18,352 | 2,039
B season (40%) |  | 13,594 | 12,235 | 1,359
| Eastern | 2,862 | 2,576 | 286
Total |  | 60,102 | 54,092 | 6,010

Demersal Shelf Rockfish (DSR)

In 2006 the Alaska Board of Fish (BOF) allocated the Southeast Outside District DSR TAC between the commercial fishery (84 percent) and the sportfish fishery (16 percent). This results in an 2009 and 2010 allocation of 304 mt to the commercial fishery and 58 mt to the sportfish fishery. Estimates of incidental catch of DSR in the commercial halibut fishery are deducted from the DSR commercial fishery allocation. In 2008 this resulted in 120 mt being available for the directed commercial DSR fishery of which 41 mt were harvested. The Alaska Department of Fish and Game (ADF&G) will announce the opening of directed fishing for DSR in January following the International Pacific Halibut Commission's (IPHC) annual meeting to be held January 13-16, 2009. DSR harvest in the halibut fishery is linked to the halibut quota, therefore ADF&G cannot estimate potential DSR incidental catch in that fishery until those quotas are established. Full retention of all DSR by federally permitted catcher vessels using hook-and-line or jig gear fishing for groundfish and Pacific halibut in the SEO District of the GOA is required (§ 679.20(j)).

Apportionments to the Central GOA Rockfish Pilot Program

Section 679.81(a)(1) and (2) require the allocation of the primary rockfish species TACs in the Central Regulatory Area after deducting incidental catch needs in other directed groundfish fisheries, to participants in the Rockfish Pilot Program. Five percent (2.5 percent to trawl gear and 2.5 percent to fixed gear) of the final TACs for Pacific ocean perch, northern rockfish, and pelagic shelf rockfish in the Central Regulatory Area are allocated to the entry level rockfish fishery and the remaining 95 percent to those vessels eligible to participate in the Rockfish Program. NMFS is setting aside in 2009 and 2010 incidental catch amounts (ICAs) of 200 mt of Pacific ocean perch, 100 mt of northern rockfish, and 100 mt of pelagic shelf rockfish for other directed fisheries in the Central Regulatory Area. These amounts are based on the 2003 through 2007 average incidental catch in the Central Regulatory Area by these other groundfish fisheries.

Section 679.83(a)(1)(i) requires allocations to the trawl entry level fishery to be made first from the allocation of Pacific ocean perch available to the rockfish entry level fishery. If the amount of Pacific ocean perch available for allocation is less than the total allocation allowable for trawl catcher vessels in the rockfish entry level fishery, then northern rockfish and pelagic shelf rockfish must be allocated to trawl catcher vessels. Allocations of Pacific ocean perch, northern rockfish, and pelagic shelf rockfish to longline gear vessels must be made after the allocations to trawl gear.

Tables 9 and 10 list the final 2009 and 2010 allocations of rockfish in the Central GOA to trawl and longline gear in the entry level rockfish fishery, respectively.

Table 9—Final 2009 Allocations of Rockfish in the Central Gulf of Alaska to Trawl and Longline Gear ¹ in the Entry Level Rockfish Fishery
[Values are rounded to nearest mt]
Species | TAC | Incidental catch allowance | TAC minus ICA | 5% TAC minus ICA | 2.5% TAC minus ICA | Entry level trawl allocation | Entry level longline allocation
Pacific ocean perch | 8,246 | 200 | 8,046 | 402 | 201 | 339 | 63
Northern rockfish | 2,308 | 100 | 2,208 | 110 | 55 | 0 | 110
Pelagic shelf rockfish | 3,404 | 100 | 3,304 | 165 | 83 | 0 | 165
Total | 13,958 | 400 | 13,558 | 678 | 339 | 339 | 339
¹ Longline gear includes jig and hook-and-line gear.

Table 10—Final 2010 Allocations of Rockfish in the Central Gulf of Alaska to Trawl and Longline Gear ¹ in the Entry Level Rockfish Fishery
[Values are rounded to nearest mt]
Species | TAC | Incidental catch allowance | TAC minus ICA | 5% TAC minus ICA | 2.5% TAC minus ICA | Entry level trawl allocation | Entry level longline allocation
Pacific ocean perch | 8,239 | 200 | 8,039 | 402 | 201 | 331 | 71
Northern rockfish | 2,208 | 100 | 2,108 | 105 | 53 | 0 | 105
Pelagic shelf rockfish | 3,179 | 100 | 3,079 | 154 | 77 | 0 | 154
Total | 13,626 | 400 | 13,226 | 661 | 331 | 331 | 330
¹ Longline gear includes jig and hook-and-line gear.

Halibut PSC Limits

Section 679.21(d) establishes the annual halibut PSC limit apportionments to trawl and hook-and-line gear and permits the establishment of apportionments for pot gear. In December 2008, the Council recommended that NMFS maintain the 2008 halibut PSC limits of 2,000 mt for the trawl fisheries and 300 mt for the hook-and-line fisheries. Ten mt of the hook-and-line limit is further allocated to the DSR fishery in the SEO District. The DSR fishery is defined at § 679.21(d)(4)(iii)(A). This fishery has been apportioned 10 mt in recognition of its small-scale harvests. Most vessels in the DSR fishery are less than 60 ft (18.3 m) length overall (LOA) and are exempt from observer coverage. Therefore, observer data are not available to verify actual bycatch amounts. NMFS assumes the halibut bycatch in the DSR fishery is low because of the short soak times for the gear and duration of the DSR fishery. Also, the DSR fishery occurs in the winter when less overlap occurs in the distribution of DSR and halibut. Finally, much of the DSR TAC is not available to the directed DSR commercial fishery. The Alaska Department of Fish and Game sets the Guideline Harvest Level (GHL) after estimates of incidental catch in all fisheries (including halibut and subsistence) and allocation to the sportfish fishery have been deducted. Of the 382 mt TAC for DSR in 2008, 120 mt was available for the commercial fishery of which 41 mt were harvested.

Section 679.21(d)(4)(i) authorizes the exemption of specified non-trawl fisheries from the halibut PSC limit. NMFS, after consultation with the Council, exempts pot gear, jig gear, and the sablefish IFQ hook-and-line gear fishery from the non-trawl halibut limit for 2009 and 2010. The Council recommended these exemptions because (1) the pot gear fisheries have low annual halibut bycatch mortality (averaging 19 mt annually from 2001 through 2008); (2) the halibut and sablefish IFQ fisheries have low halibut bycatch mortality because the IFQ program requires retention of legal-sized halibut by vessels using hook-and-line gear if a halibut IFQ permit holder is aboard and is holding unused halibut IFQ; and (3) halibut mortality for the jig gear fisheries is assumed to be negligible. Halibut mortality is assumed to be negligible in the jig gear fisheries given the small amount of groundfish harvested by jig gear (averaging 268 mt annually from 2001 through 2008), the selective nature of jig gear, and the high survival rates of halibut caught and released with jig gear.

Section 679.21(d)(5) provides NMFS the authority to seasonally apportion the halibut PSC limits after consultation with the Council. The FMP and regulations require the Council and NMFS to consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry.

The final 2008 and 2009 groundfish harvest specifications (73 FR 10562, February 27, 2008) summarized the Council and NMFS’s findings with respect to each of these FMP considerations. The Council and NMFS’s findings for 2009 and 2010 are unchanged from 2008. The opening dates and halibut PSC limitations for vessels using trawl gear participating in the Rockfish Program in the Central Regulatory Area are described in the final rule to implement the Rockfish Program (71 FR 67210, November 20, 2006).

NMFS concurs in the Council’s recommendations listed in Table 11, which shows the final 2009 and 2010 Pacific halilbut PSC limits, allowances, and apportionments. Sections 679.21(d)(5)(iii) and (iv) specify that any underages or overages of a seasonal apportionment of a PSC limit will be deducted from or added to the next respective seasonal apportionment within the fishing year. The information to establish the halibut PSC limits was obtained from the 2008 SAFE report, NMFS, ADF&G, the IPHC, and public testimony.

Table 11—Final 2009 and 2010 Pacific Halibut PSC Limits, Allowances, and Apportionments
[Values are in metric tons]
Trawl gear: Season | Trawl gear: Amount | Hook-and-line gear ¹: DSR: Other than DSR | Hook-and-line gear ¹: DSR: Season | Hook-and-line gear ¹: DSR: Amount | Hook-and-line gear ¹: DSR: Season | Hook-and-line gear ¹: DSR: Amount
January 20-April 1 | 550 (27.5%) | January 1-June 10 | 250 (86%) | January 1-December 31 | 10 (100%)
April 1-July 1 | 400 (20%) | June 10-September 1 | 5 (2%) |  |
July 1-September 1 | 600 (30%) | September 1-December 31 | 35 (12%) |  |
September 1-October 1 | 150 (7.5%) | n/a | n/a |  |
October 1-December 31 | 300 (15%) | n/a | n/a |  |
Total | 2,000 (100%) | n/a | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species complex, comprised of sablefish, rockfish, deep-water flatfish, rex sole and arrowtooth flounder; and (2) a shallow-water species complex, comprised of pollock, Pacific cod, shallow-water flatfish, flathead sole, Atka mackerel, skates, and “other species” (( 679.21(d)(3)(iii)). Table 12 lists the final 2009 and 2010 apportionments of Pacific halibut PSC trawl limits between the trawl gear deep-water species complex and shallow-water species complex.

Table 12—Final 2009 and 2010 Apportionment of Pacific Halibut PSC Trawl Limits Between the Trawl Gear Deep-Water Species Complex and the Shallow-Water Species Complex
[Values are in metric tons]
Season | Shallow-water species complex | Deep-water species complex ¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² | n/a | n/a | 300
Total | n/a | n/a | 2,000
¹ Vessels participating in cooperatives in the Central Gulf of Alaska Rockfish Pilot Program will receive a portion of the third season (July 1-September 1) deep-water category halibut PSC apportionment. At this time, this amount is unknown but will be posted later on the Alaska Region Web site at http://www.alaskafisheries.noaa.gov when it becomes available.
² There is no apportionment between shallow-water and deep-water fishery complexes during the 5th season (October 1-December 31).

Estimated Halibut Bycatch in Prior Years

The best available information on estimated halibut bycatch is data collected by observers during 2008. The calculated halibut bycatch mortality by trawl, hook-and-line, and pot gears through December 31, 2008, is 1,950 mt, 413 mt, and 29 mt, respectively, for a total halibut mortality of 2,392 mt.

Halibut bycatch restrictions seasonally constrained trawl gear fisheries during the 2008 fishing year. The trawl fishery during the second season was closed for the deep-water species category on April 21 (73 FR 22062, April 24, 2008), and during the fourth season on September 11 (73 FR 53159, September 15, 2008). The trawl fishery during the first season was closed for the shallow-water species category on March 10 (73 FR 13464, March 13, 2008) and opened on March 21 through May 21 (73 FR 15942, March 26, 2008, and 73 FR 30318, May 27, 2008). To prevent exceeding the fourth season halibut PSC limit for the shallow-water species category, directed fishing using trawl gear was limited to one 48-hour open period beginning September 1 (73 FR 51601, September 4, 2008), and to one 36-hour period beginning September 10 (73 FR 52930, September 12, 2008). The trawl fishery for all groundfish targets (with the exception of vessels targeting pollock where open using pelagic trawl gear and vessels participating in the Rockfish Program in the Central GOA) closed for the fifth season on November 6, 2008 (73 FR 66561, November 10, 2008) and reopened on November 16, 2008 (73 FR 69586, November 19, 2008) following the reallocation of unused halibut PSC from rockfish cooperatives in the Central Gulf of Alaska Rockfish Pilot Program to vessels using trawl gear in the GOA (73 FR 69587, November 19, 2008). Directed fishing for groundfish using hook-and-line gear closed for the year on October 16 (73 FR 62212, October 20, 2008). The amount of groundfish that vessels using hook-and-line and trawl gear might have harvested if halibut PSC limits had not restricted the 2008 season is unknown.

Expected Changes in Groundfish Stocks and Catch

The final 2009 ABCs for deep-water flatfish, flathead sole, and Pacific ocean perch are higher than those established for 2008, while the final 2009 ABCs for pollock, Pacific cod, rex sole, arrowtooth flounder, rougheye rockfish, northern rockfish, pelagic shelf rockfish, demersal shelf rockfish, and sablefish are lower than those established for 2008. The final 2010 ABCs for pollock, Pacific cod, deep-water flatfish, flathead sole, Pacific ocean perch, and rougheye rockfish are higher than those established for 2008, while the final 2010 ABCs for arrowtooth flounder, rex sole, rougheye rockfish, northern rockfish, pelagic shelf rockfish, demersal shelf rockfish, and sablefish are lower than those established for 2008. For the remaining target species, the Council recommended that ABC levels remain unchanged from 2008. More information on these changes is included in the final SAFE report (November 2008). This document is available from the Council (see ADDRESSES).

In the GOA, the total final 2009 TAC amounts are 242,727 mt, a decrease of 7.6 percent from the 2008 TAC total of 262,826 mt. The total final 2010 TAC amounts are 284,688 mt, an increase of 8.3 percent from the 2008 TAC total of 262,826 mt. Table 13 compares the final 2008 TACs to the final 2009 and 2010 TACs.

Table 13—Comparison of Final 2008 and Final 2009 and 2010 Total Allowable Catch in the Gulf of Alaska
[Values are rounded to the nearest metric ton]
Species | 2008 | 2009 | 2010
Pollock | 60,180 | 49,900 | 74,330
Pacific cod | 50,269 | 41,807 | 60,102
Deep-water flatfish | 8,903 | 9,168 | 9,793
Rex sole | 9,132 | 8,996 | 8,827
Flathead sole | 11,054 | 11,181 | 11,289
Shallow-water flatfish | 22,256 | 22,256 | 22,256
Arrowtooth flounder | 43,000 | 43,000 | 43,000
Sablefish | 12,730 | 11,160 | 10,337
Pacific ocean perch | 14,999 | 15,111 | 15,098
Shortraker rockfish | 898 | 898 | 898
Rougheye rockfish | 1,286 | 1,284 | 1,297
Other rockfish | 1,730 | 1,730 | 1,730
Northern rockfish | 4,549 | 4,362 | 4,173
Pelagic shelf rockfish | 5,227 | 4,781 | 4,465
Thornyhead rockfish | 1,910 | 1,910 | 1,910
Big skates | 3,330 | 3,330 | 3,330
Longnose skates | 2,887 | 2,887 | 2,887
Other skates | 2,104 | 2,104 | 2,104
Demersal shelf rockfish | 382 | 362 | 362
Atka mackerel | 1,500 | 2,000 | 2,000
“Other species” | 4,500 | 4,500 | 4,500
Total | 262,826 | 242,727 | 284,688

Current Estimates of Halibut Biomass and Stock Condition

The most recent halibut stock assessment was developed by the International Pacific Halibut Commission (IPHC) staff in December 2008 for the 2009 commercial fishery; this assessment was considered by the IPHC at its annual January 2009 meeting. Information from ongoing passive integrated transponder (PIT) tag recoveries, as well as inconsistencies in the traditional closed-area stock assessments for some areas has prompted the IPHC to reexamine the stock assessment framework and corresponding harvest policy. It had been assumed that once the halibut reached legal commercial size there was little movement between regulatory areas. PIT tag recoveries indicate greater movement between regulatory areas than previously thought. In response to this new information, IPHC staff developed a coast-wide assessment based on a single stock. The assessment recommends a coast-wide harvest rate of 20 percent of the exploitable biomass (Ebio) overall, but a lower harvest rate of 15 percent for Areas 4A, B, C, D, and E. The current estimate of coast-wide (United States and Canada) EBio for 2009 is 147,419 mt, down from 163,749 mt estimated for 2008. Virtually all of the decrease is due to lower survey and commercial catch rates of legal-sized halibut. Projections based on the currently estimated age compositions suggest that the exploitable and female spawning biomass will increase over the next several years as a sequence of strong year classes recruit to the legal-sized component of the population. The female spawning biomass (Sbio) is estimated to be 14,288 mt for 2009, an increase of 3 percent from 2008, and approximately 35 percent of the estimated unfished SBio of 398,258 mt.

The halibut resource is fully utilized. Recent catches, over the last 14 years (1994-2007) in the commercial halibut fisheries in Alaska have averaged 33,675 mt round weight. In January 2009, the IPHC approved Alaska commercial catch limits totaling 27,518 mt round weight for 2009, a 9 percent decrease from 30,349 mt in 2008. Through December 31, 2008, commercial hook-and-line harvests of halibut off Alaska totaled 29,577 mt round weight.

Additional information on the Pacific halibut stock assessment may be found in the IPHC's 2008 Pacific halibut stock assessment (December 2008), available on the IPHC Web site at http://www.iphc.washington.edu. The IPHC considered the 2008 Pacific halibut assessment for 2009 at its January 2009 annual meeting when the IPHC set the 2009 commercial halibut fishery catch limits.

Other Factors

The proposed 2009 and 2010 harvest specifications (73 FR 73222, December 2, 2008) discuss potential impacts of expected fishing for groundfish on halibut stocks, as well as methods available for, and costs of, reducing halibut bycatch in the groundfish fisheries.

Halibut Discard Mortality Rates

The Council recommends and NMFS concurs that the halibut discard mortality rates (DMRs) developed and recommended by the IPHC for the 2009 and 2010 GOA groundfish fisheries be used to monitor the 2009 and 2010 GOA halibut bycatch mortality limits. The IPHC recommended use of long-term average DMRs for the 2009 and 2010 groundfish fisheries. The IPHC will analyze observer data annually and recommend changes to the DMRs where a DMR shows large variation from the mean. Most of the IPHC's assumed DMRs were based on an average of mortality rates determined from NMFS observer data collected between 1996 and 2005. Long-term average DMRs were not available for some fisheries, so rates from the most recent years were used. For the “other species” and skate fisheries, where insufficient mortality data are available, the mortality rate of halibut caught in the Pacific cod fishery for that gear type was recommended as a default rate. The GOA DMRs for 2009 and 2010 are unchanged from those used in 2008. The DMRs for hook-and-line targeted fisheries range from 10 to 14 percent. The DMRs for trawl target fisheries range from 53 to 76 percent. Each DMR for the pot target fisheries is 16 percent. The final halibut DMRs for vessels fishing in the GOA for 2009 and 2010 are listed in Table 14. A copy of the document justifying these DMRs is available from the Council (see ADDRESSES) and is discussed in the final 2008 SAFE report, dated November 2008. The IPHC intends to review all of the DMRs in 2009 for use in the groundfish fisheries during 2010 through 2012.

Table 14—Final 2009 and 2010 Halibut Discard Mortality Rates for Vessels Fishing in the Gulf of Alaska
[Values are percent of halibut bycatch assumed to be dead]
Gear | Target fishery | Mortality rate (%)
Hook-and-line | Other species | 14
| Skates | 14
| Pacific cod | 14
| Rockfish | 10
Trawl | Arrowtooth flounder | 69
| Atka mackere | l60
| Deep-water flatfish | 53
| Flathead sole | 61
| Non-pelagic pollock | 59
| Other species | 63
| Skates | 63
| Pacific cod | 63
| Pelagic pollock | 76
| Rex sole | 63
| Rockfish | 67
| Sablefish | 65
| Shallow-water flatfish | 71
Pot | Other species | 16
| Skates | 16
| Pacific cod | 16

American Fisheries Act (AFA) Catcher/Processor and Catcher Vessel Groundfish Harvest and PSC Limits

Section 679.64 establishes groundfish harvesting and processing sideboard limitations on AFA catcher/processors and catcher vessels in the GOA. These sideboard limits are necessary to protect the interests of fishermen and processors who have not directly benefitted from the AFA from fishermen and processors who have received exclusive harvesting and processing privileges under the AFA. Section 679.7(k)(1)(ii) prohibits listed AFA catcher/processors from harvesting any species of fish in the GOA. Additionally, § 679.7(k)(1)(iv) prohibits listed AFA catcher/processors from processing any pollock harvested in a directed pollock fishery in the GOA and any groundfish harvested in Statistical Area 630 of the GOA.

AFA catcher vessels that are less than 125 ft (38.1 m) LOA, have annual landings of pollock in the Bering Sea and Aleutian Islands less than 5,100 mt, and have made at least 40 groundfish landings from 1995 through 1997 are exempt from GOA sideboard limits under § 679.64(b)(2)(ii). Sideboard limits for non-exempt AFA catcher vessels in the GOA are based on their traditional harvest levels of TAC in groundfish fisheries covered by the GOA FMP. Section 679.64(b)(3)(iii) establishes the groundfish sideboard limitations in the GOA based on the retained catch of non-exempt AFA catcher vessels of each sideboard species from 1995 through 1997 divided by the TAC for that species over the same period. The final 2009 and 2010 non-exempt AFA catcher vessel groundfish harvest sideboard limitations are listed in Tables 15 and 16, respectively. All catch of sideboard species made by non-exempt AFA catcher vessels, whether as targeted catch or incidental catch, will be deducted from the sideboard limits in Tables 15 and 16. The ratios used to calculate these sideboard limits were adjusted slightly to reflect changing two separate vessels' status from non-exempt to exempt, based on NMFS administrative review of these vessels' applications for non-exempt versus exempt status. This results in slight decreases to the catch-to-TAC ratios used in 2008 to establish the non-exempt AFA CV sideboard limits.

Table 15—Final 2009 GOA Non-Exempt American Fisheries Act Catcher Vessel (CV) Groundfish Harvest Sideboard Limitations
[Values are rounded to nearest metric ton]
Species | Apportionments by season/gear | Area/component | Ratio of 1995-1997 non-exempt AFA CV catch to 1995-1997 TAC | 2009 TAC | 2009 non-exempt AFA CV sideboard limit
Pollock | A Season | Shumagin | 0.6047 | 3,234 | 1,956
| January 20-March 10 | Chirikof (620) | 0.1167 | 4,365 | 509
|  | Kodiak (630) | 0.2028 | 2,503 | 508
| B Season | Shumagin | 0.6047 | 3,233 | 1,955
| March 10—May 31 | Chirikof (620) | 0.1167 | 5,413 | 632
|  | Kodiak (630) | 0.2028 | 1,455 | 295
| C Season | Shumagin | 0.6047 | 4,391 | 2,655
| August 25-October 1 | Chirikof (620) | 0.1167 | 2,160 | 252
|  | Kodiak (630) | 0.2028 | 3,550 | 720
| D Season | Shumagin | 0.6047 | 4,391 | 2,655
| October 1—November 1 | Chirikof (620) | 0.1167 | 2,160 | 252
|  | Kodiak (630) | 0.2028 | 3,550 | 720
| Annual | WYK (640) | 0.3495 | 1,215 | 425
|  | SEO (650) | 0.3495 | 8,280 | 2,894
Pacific cod | A Season ¹ | W inshore | 0.1365 | 8,735 | 1,192
| January 1-June 10 | W offshore | 0.1026 | 970 | 100
|  | C inshore | 0.0689 | 12,767 | 880
|  | C offshore | 0.0721 | 1,418 | 102
| B Season ² | W inshore | 0.1365 | 5,823 | 795
| September 1- | W offshore
| December 31 |  | 0.1026 | 647 | 66
|  | C inshore | 0.0689 | 8,510 | 586
|  | C offshore | 0.0721 | 946 | 68
| Annual | E inshore | 0.0079 | 1,792 | 14
|  | E offshore | 0.0078 | 199 | 2
Flatfish, deep-water | Annual | W | 0.0000 | 706 | 0
|  | C | 0.0647 | 6,927 | 448
|  | E | 0.0128 | 1,535 | 20
Rex sole | Annual | W | 0.0007 | 1,007 | 1
|  | C | 0.0384 | 6,630 | 255
|  | E | 0.0029 | 1,359 | 4
Flathead sole | Annual | W | 0.0036 | 2,000 | 7
|  | C | 0.0213 | 5,000 | 107
|  | E | 0.0009 | 4,181 | 4
Flatfish, shallow-water | Annual | W | 0.0156 | 4,500 | 70
|  | C | 0.0587 | 13,000 | 763
|  | E | 0.0126 | 4,756 | 60
Arrowtooth flounder | Annual | W | 0.0021 | 8,000 | 17
|  | C | 0.0280 | 30,000 | 840
|  | E | 0.0002 | 5,000 | 1
Sablefish | Annual, trawl gear | W | 0.0000 | 328 | 0
|  | C | 0.0642 | 998 | 64
|  | E | 0.0433 | 227 | 10
Pacific ocean perch | Annual | W | 0.0023 | 3,713 | 9
|  | C | 0.0748 | 8,246 | 617
|  | E | 0.0466 | 3,152 | 147
Shortraker rockfish | Annual | W | 0.0000 | 120 | 0
|  | C | 0.0218 | 315 | 7
|  | E | 0.0110 | 463 | 5
Rougheye rockfish | Annual | W | 0.0000 | 125 | 0
|  | C | 0.0237 | 833 | 20
|  | E | 0.0124 | 326 | 4
Other rockfish | Annual | W | 0.0034 | 357 | 1
|  | C | 0.1699 | 569 | 97
|  | E | 0.0000 | 804 | 0
Northern rockfish | Annual | W | 0.0003 | 2,054 | 1
|  | C | 0.0277 | 2,308 | 64
Pelagic shelf rockfish | Annual | W | 0.0001 | 819 | 0
|  | C | 0.0000 | 3,404 | 0
|  | E | 0.0067 | 558 | 4
Thornyhead rockfish | Annual | W | 0.0280 | 267 | 7
|  | C | 0.0280 | 860 | 24
|  | E | 0.0280 | 783 | 22
Big skates | Annual | W | 0.0063 | 632 | 4
|  | C | 0.0063 | 2,065 | 13
|  | E | 0.0063 | 633 | 4
Longnose skates | Annual | W | 0.0063 | 78 | 0
|  | C | 0.0063 | 2,041 | 13
|  | E | 0.0063 | 768 | 5
Other skates | Annual | Gulfwide | 0.0063 | 2,104 | 13
Demersal shelf rockfish | Annual | SEO |  |  |
|  |  | 0.0020 | 362 | 1
Atka | Annual | Gulfwide | 0.0309 | 2,000 | 62
Other | Annual | Gulfwide | 0.0063 | 4,500 | 28
¹ The Pacific cod A season for trawl gear does not open until January 20.
² The Pacific cod B season for trawl gear closes November 1.

Table 16—Final 2010 GOA Non-Exempt American Fisheries Act Catcher Vessel (CV) Groundfish Harvest Sideboard Limitations
[Values are rounded to nearest metric ton]
Species | Apportionments by season/gear | Area/component | Ratio of 1995-1997 non-exempt AFA CV catch to 1995-1997 TAC | 2010 TAC | 2010 non-exempt AFA CV sideboard limit
Pollock | A Season | Shumagin (610) | 0.6047 | 5,132 | 3,103
| January 20-March 10 | Chirikof (620) | 0.1167 | 6,927 | 808
|  | Kodiak (630) | 0.2028 | 3,972 | 806
| B Season | Shumagin (610) | 0.6047 | 5,131 | 3,103
| March 10-May 31 | Chirikof (620) | 0.1167 | 8,591 | 1,003
|  | Kodiak (630) | 0.2028 | 2,308 | 468
| C Season | Shumagin (610) | 0.6047 | 6,968 | 4,214
| August 25-October 1 | Chirikof (620) | 0.1167 | 3,428 | 400
|  | Kodiak (630) | 0.2028 | 5,634 | 1,143
| D Season | Shumagin (610) | 0.6047 | 6,968 | 4,214
| October 1-November 1 | Chirikof (620) | 0.1167 | 3,428 | 400
|  | Kodiak (630) | 0.2028 | 5,634 | 1,143
| Annual | WYK (640) | 0.3495 | 1,929 | 674
|  | SEO (650) | 0.3495 | 8,280 | 2,894
Pacific cod | A Season ¹ | W inshore | 0.1365 | 12,557 | 1,714
| January 1-June 10 | W offshore | 0.1026 | 1,395 | 143
|  | C inshore | 0.0689 | 18,352 | 1,264
|  | C offshore | 0.0721 | 2,039 | 147
| B Season ² | W inshore | 0.1365 | 8,371 | 1,143
| September 1-December 31 | W offshore | 0.1026 | 930 | 95
|  | C inshore | 0.0689 | 12,235 | 843
|  | C offshore | 0.0721 | 1,359 | 98
| Annual | E inshore | 0.0079 | 2,576 | 20
|  | E offshore | 0.0078 | 286 | 2
Flatfish, deep-water | Annual | W | 0.0000 | 747 | 0
|  | C | 0.0647 | 7,405 | 479
|  | E | 0.0128 | 1,641 | 21
Rex sole | Annual | W | 0.0007 | 988 | 1
|  | C | 0.0384 | 6,506 | 250
|  | E | 0.0029 | 1,333 | 4
Flathead sole | Annual | W | 0.0036 | 2,000 | 7
|  | C | 0.0213 | 5,000 | 107
|  | E | 0.0009 | 4,289 | 4
Flatfish, shallow-water | Annual | W | 0.0156 | 4,500 | 70
|  | C | 0.0587 | 13,000 | 763
|  | E | 0.0126 | 4,756 | 60
Arrowtooth flounder | Annual | W | 0.0021 | 8,000 | 17
|  | C | 0.0280 | 30,000 | 840
|  | E | 0.0002 | 5,000 | 1
Sablefish | Annual, trawl gear | W | 0.0000 | 305 | 0
|  | C | 0.0642 | 925 | 59
|  | E | 0.0433 | 209 | 9
Pacific ocean perch | Annual | W | 0.0023 | 3,710 | 9
|  | C | 0.0748 | 8,239 | 616
|  | E | 0.0466 | 3,149 | 147
Shortraker rockfish | Annual | W | 0.0000 | 120 | 0
|  | C | 0.0218 | 315 | 7
|  | E | 0.0110 | 463 | 5
Rougheye rockfish | Annual | W | 0.0000 | 126 | 0
|  | C | 0.0237 | 842 | 20
|  | E | 0.0124 | 329 | 4
Other rockfish | Annual | W | 0.0034 | 357 | 1
|  | C | 0.1699 | 569 | 97
|  | E | 0.0000 | 804 | 0
Northern rockfish | Annual | W | 0.0003 | 1,965 | 1
|  | C | 0.0277 | 2,208 | 61
Pelagic shelf rockfish | Annual | W | 0.0001 | 765 | 0
|  | C | 0.0000 | 3,179 | 0
|  | E | 0.0067 | 521 | 3
Thornyhead rockfish | Annual | W | 0.0280 | 267 | 7
|  | C | 0.0280 | 860 | 24
|  | E | 0.0280 | 783 | 22
Big skates | Annual | W | 0.0063 | 632 | 4
|  | C | 0.0063 | 2,065 | 13
|  | E | 0.0063 | 633 | 4
Longnose skates | Annual | W | 0.0063 | 78 | 0
|  | C | 0.0063 | 2,041 | 13
|  | E | 0.0063 | 768 | 5
Other skates | Annual | Gulfwide | 0.0063 | 2,104 | 13
Demersal shelf rockfish | Annual | SEO | 0.0020 | 362 | 1
Atka mackerel | Annual | Gulfwide | 0.0309 | 2,000 | 62
Other species | Annual | Gulfwide | 0.0063 | 4,500 | 28
¹ The Pacific cod A season for trawl gear does not open until January 20.
² The Pacific cod B season for trawl gear closes November 1.

The PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 17 lists the final 2009 and 2010 non-exempt AFA catcher vessel halibut PSC limits for vessels using trawl gear in the GOA.

Table 17—Final 2009 and 2010 Non-Exempt American Fisheries Act Catcher Vessel Halibut Prohibited Species Catch (PSC) Limits for Vessels Using Trawl Gear in the GOA
[Values are in metric tons]
Seasonal allowance | Season | Target fishery | Ratio of 1995-1997 non-exempt AFA CV retained catch to total retained catch | 2009 and 2010 PSC limit | 2009 and 2010 non-exempt AFA CV PSC limit
1 | January 20-April 1 | shallow-water | 0.340 | 450 | 153
2 | April 1-July 1 | deep-water | 0.070 | 100 | 7
|  | shallow-water | 0.340 | 100 | 34
3 | July 1-September 1 | deep-water | 0.070 | 300 | 21
|  | shallow-water | 0.340 | 200 | 68
4 | September 1-October 1 | deep-water | 0.070 | 400 | 28
|  | shallow-water | 0.340 | 150 | 51
5 | October 1-December 31 | deep-water ¹ | 0.070 | 0 | 0
|  | all targets | 0.205 | 300 | 61
¹ There is no apportionment of halibut PSC to the deep-water targets in September. However any unused apportionment to the deep-water targets from earlier in the fishing year may be used to support the deep-water targets in September.

Non-AFA Crab Vessel Groundfish Harvest Limitations

Section 680.22 establishes groundfish catch limits for vessels with a history of participation in the Bering Sea snow crab fishery from using the increased flexibility provided by the Crab Rationalization Program to expand their level of participation in the GOA groundfish fisheries. These sideboard limits restrict these vessels' catch to their collective historical landings in each GOA groundfish fishery (except the fixed-gear sablefish fishery). Sideboard limits also will apply to catch made using a License Limitation Program (LLP) license derived from the history of a restricted vessel, even if that LLP license is used on another vessel.

Sideboard limits for non-AFA crab vessels in the GOA are based on their traditional harvest levels of TAC in groundfish fisheries covered by the GOA FMP. Sections 680.22(d) and (e) base the groundfish sideboard limitations in the GOA on the retained catch by non-AFA crab vessels of each sideboard species from 1996 through 2000 divided by the total retained harvest of that species over the same period. The 2009 and 2010 final GOA non-AFA crab vessel groundfish harvest sideboard limits are listed in Tables 18 and 19. All targeted or incidental catch of sideboard species made by non-AFA crab vessels will be deducted from the sideboard limits in Tables 18 and 19.

Vessels exempt from Pacific cod sideboards are those that landed less than 45,359 kilograms of Bering Sea snow crab and more than 500 mt of groundfish (in round weight equivalents) from the GOA between January 1, 1996, and December 31, 2000, and any vessel named on an LLP that was generated in whole or in part by the fishing history of a vessel meeting the criteria in § 680.22(a)(3).

Table 18—Final 2009 GOA Non-American Fisheries Act Crab Vessel Groundfish Harvest Sideboard Limits
[Values are rounded to nearest metric ton]
Species | Season/gear | Area/component | Ratio of 1996-2000 non-AFA crab vessel catch to 1996-2000 total harvest | 2009 TAC | 2009 non-AFA crab vessel sideboard limit
Pollock | A Season | Shumagin (610) | 0.0098 | 3,234 | 32
| January 20-March 10 | Chirikof (620) | 0.0031 | 4,365 | 14
|  | Kodiak (630) | 0.0002 | 2,503 | 1
| B Season | Shumagin (610) | 0.0098 | 3,233 | 32
| March 10-May 31 | Chirikof (620) | 0.0031 | 5,413 | 17
|  | Kodiak (630) | 0.0002 | 1,455 | 0
| C Season | Shumagin (610) | 0.0098 | 4,391 | 43
| August 25-October 1 | Chirikof (620) | 0.0031 | 2,160 | 7
|  | Kodiak (630) | 0.0002 | 3,550 | 1
| D Season | Shumagin (610) | 0.0098 | 4,391 | 43
| October 1-November 1 | Chirikof (620) | 0.0031 | 2,160 | 7
|  | Kodiak (630) | 0.0002 | 3,550 | 1
| Annual | WYK (640) | 0.0000 | 1,215 | 0
|  | SEO (650) | 0.0000 | 8,280 | 0
Pacific cod | A Season ¹ | W inshore | 0.0902 | 8,735 | 788
| January 1-June 10 | W offshore | 0.2046 | 970 | 198
|  | C inshore | 0.0383 | 12,767 | 489
|  | C offshore | 0.2074 | 1,418 | 294
| B Season ² | W inshore | 0.0902 | 5,823 | 525
| September 1-December 31 | W offshore | 0.2046 | 647 | 132
|  | C inshore | 0.0383 | 8,510 | 326
|  | C offshore | 0.2074 | 946 | 196
| Annual | E inshore | 0.0110 | 1,792 | 20
|  | E offshore | 0.0000 | 199 | 0
Flatfish deep-water | Annual | W | 0.0035 | 706 | 2
|  | C | 0.0000 | 6,927 | 0
|  | E | 0.0000 | 1,535 | 0
Rex sole | Annual | W | 0.0000 | 1,007 | 0
|  | C | 0.0000 | 6,630 | 0
|  | E | 0.0000 | 1,359 | 0
Flathead sole | Annual | W | 0.0002 | 2,000 | 0
|  | C | 0.0004 | 5,000 | 2
|  | E | 0.0000 | 4,181 | 0
Flatfish shallow-water | Annual | W | 0.0059 | 4,500 | 27
|  | C | 0.0001 | 13,000 | 1
|  | E | 0.0000 | 4,756 | 0
Arrowtooth flounder | Annual | W | 0.0004 | 8,000 | 3
|  | C | 0.0001 | 30,000 | 3
|  | E | 0.0000 | 5,000 | 0
Sablefish | Annual, trawl gear | W | 0.0000 | 328 | 0
|  | C | 0.0000 | 998 | 0
|  | E | 0.0000 | 227 | 0
Pacific ocean perch | Annual | W | 0.0000 | 3,713 | 0
|  | C | 0.0000 | 8,246 | 0
|  | E | 0.0000 | 3,152 | 0
Shortraker rockfish | Annual | W | 0.0013 | 120 | 0
|  | C | 0.0012 | 315 | 0
|  | E | 0.0009 | 463 | 0
Rougheye rockfish | Annual | W | 0.0067 | 125 | 1
|  | C | 0.0047 | 833 | 4
|  | E | 0.0008 | 326 | 0
Other rockfish | Annual | W | 0.0035 | 357 | 1
|  | C | 0.0033 | 569 | 2
|  | E | 0.0000 | 804 | 0
Northern rockfish | Annual | W | 0.0005 | 2,054 | 1
|  | C | 0.0000 | 2,308 | 0
Pelagic shelf rockfish | Annual | W | 0.0017 | 819 | 1
|  | C | 0.0000 | 3,404 | 0
|  | E | 0.0000 | 558 | 0
Thornyhead rockfish | Annual | W | 0.0047 | 267 | 1
|  | C | 0.0066 | 860 | 6
|  | E | 0.0045 | 783 | 4
Big skate | Annual | W | 0.0392 | 632 | 25
|  | C | 0.0159 | 2,065 | 33
|  | E | 0.0000 | 633 | 0
Longnose skate | Annual | W | 0.0392 | 78 | 3
|  | C | 0.0159 | 2,041 | 32
|  | E | 0.0000 | 768 | 0
Other skates | Annual | Gulfwide | 0.0176 | 2,104 | 37
Demersal shelf rockfish | Annual | SEO | 0.0000 | 362 | 0
Atka mackerel | Annual | Gulfwide | 0.0000 | 2,000 | 0
Other species | Annual | Gulfwide | 0.0176 | 4,500 | 79
¹ The Pacific cod A season for trawl gear does not open until January 20.
² The Pacific cod B season for trawl gear closes November 1.

Table 19—Final 2010 GOA Non-American Fisheries Act Crab Vessel Groundfish Harvest Sideboard Limits
[Values are rounded to nearest metric ton]
Species | Season/gear | Area/component | Ratio of 1996-2000 non-AFA crab vessel catch to 1996-2000 total harvest | 2010 TAC | 2010 non-AFA crab vessel sideboard limit
Pollock | A Season | Shumagin (610) | 0.0098 | 5,132 | 50
| January 20-March 10 | Chirikof (620) | 0.0031 | 6,927 | 21
|  | Kodiak (630) | 0.0002 | 3,972 | 1
| B Season | Shumagin (610) | 0.0098 | 5,131 | 50
| March 10-May 31 | Chirikof (620) | 0.0031 | 8,591 | 27
|  | Kodiak (630) | 0.0002 | 2,308 | 0
| C Season | Shumagin (610) | 0.0098 | 6,968 | 68
| August 25-October 1 | Chirikof (620) | 0.0031 | 3,428 | 11
|  | Kodiak (630) | 0.0002 | 5,634 | 1
| D Season | Shumagin (610) | 0.0098 | 6,968 | 68
| October 1-November 1 | Chirikof (620) | 0.0031 | 3,428 | 11
|  | Kodiak (630) | 0.0002 | 5,634 | 1
| Annual | WYK (640) | 0.0000 | 1,929 | 0
|  | SEO (650) | 0.0000 | 8,280 | 0
Pacific cod | A Season ¹ | W inshore | 0.0902 | 12,557 | 1,133
| January 1-June 10 | W offshore | 0.2046 | 1,395 | 285
|  | C inshore | 0.0383 | 18,352 | 703
|  | C offshore | 0.2074 | 2,039 | 423
| B Season ² | W inshore | 0.0902 | 8,371 | 755
| September 1-December 31 | W offshore | 0.2046 | 930 | 190
|  | C inshore | 0.0383 | 12,235 | 469
|  | C offshore | 0.2074 | 1,359 | 282
| Annual | E inshore | 0.0110 | 2,576 | 28
|  | E offshore | 0.0000 | 286 | 0
Flatfish deep-water | Annual | W | 0.0035 | 747 | 3
|  | C | 0.0000 | 7,405 | 0
|  | E | 0.0000 | 1,641 | 0
Rex sole | Annual | W | 0.0000 | 988 | 0
|  | C | 0.0000 | 6,506 | 0
|  | E | 0.0000 | 1,333 | 0
Flathead sole | Annual | W | 0.0002 | 2,000 | 0
|  | C | 0.0004 | 5,000 | 2
|  | E | 0.0000 | 4,289 | 0
Flatfish shallow-water | Annual | W | 0.0059 | 4,500 | 27
|  | C | 0.0001 | 13,000 | 1
|  | E | 0.0000 | 4,756 | 0
Arrowtooth flounder | Annual | W | 0.0004 | 8,000 | 3
|  | C | 0.0001 | 30,000 | 3
|  | E | 0.0000 | 5,000 | 0
Sablefish | Annual, trawl gear | W | 0.0000 | 305 | 0
|  | C | 0.0000 | 925 | 0
|  | E | 0.0000 | 209 | 0
Pacific ocean perch | Annual | W | 0.0000 | 3,710 | 0
|  | C | 0.0000 | 8,239 | 0
|  | E | 0.0000 | 3,149 | 0
Shortraker rockfish | Annual | W | 0.0013 | 120 | 0
|  | C | 0.0012 | 315 | 0
|  | E | 0.0009 | 463 | 0
Rougheye rockfish | Annual | W | 0.0067 | 126 | 1
|  | C | 0.0047 | 842 | 4
|  | E | 0.0008 | 329 | 0
Other rockfish | Annual | W | 0.0035 | 357 | 1
|  | C | 0.0033 | 569 | 2
|  | E | 0.0000 | 804 | 0
Northern rockfish | Annual | W | 0.0005 | 1,965 | 1
|  | C | 0.0000 | 2,208 | 0
Pelagic shelf rockfish | Annual | W | 0.0017 | 765 | 1
|  | C | 0.0000 | 3,179 | 0
|  | E | 0.0000 | 521 | 0
Thornyhead rockfish | Annual | W | 0.0047 | 267 | 1
|  | C | 0.0066 | 860 | 6
|  | E | 0.0045 | 783 | 4
Big skate | Annual | W | 0.0392 | 632 | 25
|  | C | 0.0159 | 2,065 | 33
|  | E | 0.0000 | 633 | 0
Longnose skate | Annual | W | 0.0392 | 78 | 3
|  | C | 0.0159 | 2,041 | 32
|  | E | 0.0000 | 768 | 0
Other skates | Annual | Gulfwide | 0.0176 | 2,104 | 37
Demersal shelf rockfish | Annual | SEO | 0.0000 | 362 | 0
Atka mackerel | Annual | Gulfwide | 0.0000 | 2,000 | 0
Other species | Annual | Gulfwide | 0.0176 | 4,500 | 79
¹ The Pacific cod A season for trawl gear does not open until January 20.
² The Pacific cod B season for trawl gear closes November 1.

Rockfish Program Groundfish Sideboard Limitations and Halibut Mortality Limitations

Section 679.82(d)(7) establishes sideboards to limit the ability of participants eligible for the Rockfish Program to harvest fish in fisheries other than the Central GOA rockfish fisheries. The Rockfish Program provides certain economic advantages to harvesters. Harvesters could use this economic advantage to increase their participation in other fisheries, adversely affecting the participants in other fisheries. The final sideboards for 2009 and 2010 limit the total amount of catch that could be taken by eligible harvesters and limit the amount of halibut mortality to historic levels. The sideboard measures are in effect only during the month of July. Traditionally, the Central GOA rockfish fisheries opened in July. The sideboards are designed to restrict fishing during the historical season for the fishery, but allow eligible rockfish harvesters to participate in fisheries before or after the historical rockfish season. The sideboard provisions are discussed in detail in the proposed rule (71 FR 33040, June 7, 2006) and final rule (71 FR 67210, November 20, 2006 and 72 FR 37678, July 11, 2007) for the Rockfish Program. Tables 20 and 21 list the final 2009 and 2010 Rockfish Program harvest limits in the WYK District and the Western GOA. Table 22 lists the final 2009 and 2010 Rockfish Program halibut mortality limits for catcher/processors and catcher vessels.

Table 20—Final 2009 Rockfish Program Harvest Limits by Sector for West Yakutat District and Western Regulatory Area by the Catcher/Processor (CP) and Catcher Vessel (CV) Sectors
[Values are rounded to nearest metric ton]
Management area | Fishery | CP sector (% of TAC) | CV sector (% of TAC) | 2009 TAC | 2009 CP limit | 2009 CV limit
West Yakutat District | Pelagic shelf rockfish | 72.4 | 1.7 | 234 | 169 | 4
| Pacific ocean perch | 76.0 | 2.9 | 1,108 | 842 | 32
Western Regulatory Area | Pelagic shelf rockfish | 63.3 | 0.0 | 819 | 518 | 0
| Pacific ocean perch | 61.1 | 0.0 | 3,713 | 2,269 | 0
| Northern rockfish | 78.9 | 0.0 | 2,054 | 1,621 | 0

Table 21—Final 2010 Rockfish Program Harvest Limits by Sector for West Yakutat District and Western Regulatory Area by the Catcher/Processor (CP) and Catcher Vessel (CV) Sectors
[Values are rounded to nearest metric ton]
Management area | Fishery | CP sector (% of TAC) | CV sector (% of TAC) | 2010 TAC | 2010 CP limit | 2010 CV limit
West Yakutat District | Pelagic shelf rockfish | 72.4 | 1.7 | 219 | 159 | 4
| Pacific ocean perch | 76.0 | 2.9 | 1,107 | 841 | 32
Western Regulatory Area | Pelagic shelf rockfish | 63.3 | 0.0 | 765 | 484 | 0
| Pacific ocean perch | 61.1 | 0.0 | 3,710 | 2,267 | 0
| Northern rockfish | 78.9 | 0.0 | 1,965 | 1,550 | 0

Table 22—Final 2009 and 2010 Rockfish Program Halibut Mortality Limits for the Catcher/Processor and Catcher Vessel Sectors
[Values are rounded to nearest metric ton]
Sector | Shallow-water complex halibut PSC sideboard ratio (in percent) | Deep-water complex halibut PSC sideboard ratio (in percent) | Annual halibut mortality limit (mt) | Annual shallow-water complex halibut PSC sideboard limit (mt) | Annual deep-water complex halibut PSC sideboard limit (mt)
Catcher/processor | 0.54 | 3.99 | 2,000 | 11 | 80
Catcher vessel | 6.32 | 1.08 | 2,000 | 126 | 22

Gulf of Alaska Amendment 80 Vessel Groundfish Harvest and PSC Limits

Amendment 80 to the Fishery Management Plan for Groundfish of the Bering Sea and Aleutian Islands Management Area, hereinafter referred to as the “Amendment 80 Program,” established a limited access privilege program for the non-AFA trawl catcher processor sector. In order to limit the ability of participants eligible for the Amendment 80 Program to expand their harvest efforts in the GOA, the Amendment 80 Program established groundfish and halibut PSC catch limits for Amendment 80 Program participants in the GOA.

Section 679.92 establishes groundfish harvesting sideboard limits on all Amendment 80 Program vessels, other than the F/V GOLDEN FLEECE, to amounts no greater than the limits shown in Table 37 to part 679. Sideboard limits in the GOA are for pollock in the Western and Central Regulatory Areas and in the WYK District, for Pacific cod gulfwide, for Pacific ocean perch and pelagic shelf rockfish in the Western Regulatory Area and WYK District, and for northern rockfish in the Western Regulatory Area. The harvest of Pacific ocean perch, pelagic shelf rockfish, and northern rockfish in the Central Regulatory Area of the GOA is subject to regulation under the Central GOA Rockfish Program. Amendment 80 Program vessels not qualified under the Rockfish Program are excluded from directed fishing for these rockfish species in the Central GOA. Under regulations, the F/V GOLDEN FLEECE is prohibited from directed fishing for pollock, Pacific cod, Pacific ocean perch, pelagic shelf rockfish, and northern rockfish in the GOA. These sideboard limits are necessary to protect the interests of fishermen who do not directly benefit from Amendment 80 from expansion into their fisheries by the Amendment 80 Program participants.

Groundfish sideboard limits for Amendment 80 Program vessels operating in the GOA are based on their average aggregate harvests from 1998 to 2004. Tables 23 and 24 list the final 2009 and 2010 sideboard limits for Amendment 80 Program vessels, respectively. All targeted or incidental catch of sideboard species made by Amendment 80 Program vessels will be deducted from the sideboard limits in Tables 23 and 24.

Table 23—Final 2009 GOA Groundfish Sideboard Limits for Amendment 80 Program Vessels
[Values are rounded to nearest metric ton]
Species | Apportionments and allocations by season | Area | Ratio of amendment 80 program sector vessels 1998-2004 catch to TAC | 2009 TAC (mt) | 2009 amendment 80 program vessel sideboard limits (mt)
Pollock | A Season | Shumagin (610) | 0.003 | 3,234 | 10
| January 20-February 25 | Chirikof (620) | 0.002 | 4,365 | 9
|  | Kodiak (630) | 0.002 | 2,503 | 5
| B Season | Shumagin (610) | 0.003 | 3,233 | 10
| March 10-May 31 | Chirikof (620) | 0.002 | 5,413 | 11
|  | Kodiak (630) | 0.002 | 1,455 | 3
| C Season | Shumagin (610) | 0.003 | 4,391 | 13
| August 25-September 15 | Chirikof (620) | 0.002 | 2,160 | 4
|  | Kodiak (630) | 0.002 | 3,550 | 7
| D Season | Shumagin (610) | 0.003 | 4,391 | 13
| October 1-November 1 | Chirikof (620) | 0.002 | 2,160 | 4
|  | Kodiak (630) | 0.002 | 3,550 | 7
| Annual | WYK (640) | 0.002 | 1,215 | 2
Pacific cod | A Season ¹ | W | 0.020 | 9,705 | 194
| January 1-June 10 | C | 0.044 | 14,185 | 624
| B Season ² | W | 0.020 | 6,470 | 129
| September 1-December 31 | C | 0.044 | 9,456 | 416
| Annual | WYK | 0.034 | 1,991 | 68
Pacific ocean perch | Annual | W | 0.994 | 3,713 | 3,691
|  | WYK | 0.961 | 1,108 | 1,065
Northern rockfish | Annual | W | 1.000 | 2,054 | 2,054
|  | W | 0.764 | 819 | 626
Pelagic shelf rockfish | Annual | WYK | 0.896 | 234 | 210
¹ The Pacific cod A season for trawl gear does not open until January 20.
² The Pacific cod B season for trawl gear closes November 1.

Table 24—Final 2010 GOA Groundfish Sideboard Limits for Amendment 80 Program Vessels
[Values are rounded to nearest metric ton]
Species | Apportionments and allocations by season | Area | Ratio of Amendment 80 Program sector vessels 1998-2004 catch to TAC | 2010 TAC (mt) | 2010 Amendment 80 Program vessel sideboard limits (mt)
Pollock | A Season | Shumagin (610) | 0.003 | 5,132 | 15
| January 20-February 25 | Chirikof (620) | 0.002 | 6,927 | 14
|  | Kodiak (630) | 0.002 | 3,972 | 8
| B Season | Shumagin (610) | 0.003 | 5,131 | 15
| March 10-May 31 | Chirikof (620) | 0.002 | 8,591 | 17
|  | Kodiak (630) | 0.002 | 2,308 | 5
| C Season | Shumagin (610) | 0.003 | 6,968 | 21
| August 25-September 15 | Chirikof (620) | 0.002 | 3,428 | 7
|  | Kodiak (630) | 0.002 | 5,634 | 11
| D Season | Shumagin (610) | 0.003 | 6,968 | 21
| October 1-November 1 | Chirikof (620) | 0.002 | 3,428 | 7
|  | Kodiak (630) | 0.002 | 5,634 | 11
| Annual | WYK (640) | 0.002 | 1,929 | 4
Pacific cod | A Season ¹ | W | 0.020 | 13,952 | 279
| January 1-June 10 | C | 0.044 | 20,392 | 897
| B Season ² | W | 0.020 | 9,302 | 186
| September 1-December 31 | C | 0.044 | 13,594 | 598
| Annual | WYK | 0.034 | 2,862 | 97
Pacific ocean perch | Annual | W | 0.994 | 3,710 | 3,688
|  | WYK | 0.961 | 1,107 | 1,064
Northern rockfish | Annual | W | 1.000 | 1,965 | 1,965
Pelagic shelf rockfish | Annual | W | 0.764 | 765 | 584
|  | WYK | 0.896 | 219 | 196
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004 (Table 38 to 50 CFR part 679). These values are slightly lower than the average historic use to accommodate two factors: allocation of halibut PSC Cooperative Quotas (CQs) under the Central GOA Rockfish Program and the exemption of the F/V GOLDEN FLEECE from this restriction. Table 25 lists the final 2009 and 2010 halibut PSC limits for Amendment 80 Program vessels.

Table 25—Final 2009 and 2010 Halibut Prohibited Species Catch (PSC) Limits for Amendment 80 Program Vessels in the GOA
[Values are rounded to nearest metric ton]
Seasonal allowance | Season | Target fishery | Historic Amendment 80 Program use of the annual halibut PSC limit catch | 2009 and 2010 annual PSC limit (mt) | 2009 and 2010 Amendment 80 Program vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Directed Fishing Closures

Pursuant to § 679.20(d)(1)(i), if the Regional Administrator determines (1) that any allocation or apportionment of a target species or “other species” category allocated or apportioned to a fishery will be reached; or (2) with respect to pollock and Pacific cod, that an allocation or apportionment to an inshore or offshore component allocation will be reached, the Regional Administrator may establish a directed fishing allowance (DFA) for that species or species group. If the Regional Administrator establishes a DFA and that allowance is or will be reached before the end of the fishing year, NMFS will prohibit directed fishing for that species or species group in the specified GOA regulatory area or district § 679.20(d)(1)(iii)).

The Regional Administrator has determined that the following TAC amounts in Table 26 are necessary as incidental catch to support other anticipated groundfish fisheries for the 2009 and 2010 fishing years.

Table 26—2009 and 2010 Directed Fishing Closures in the GOA
[Amounts for incidental catch in other directed fisheries are in metric tons]
Target | Area/component/gear | Incidental catch amount
Atka mackerel | all | 2,000
Thornyhead rockfish | all | 1,910
Shortraker rockfish | all | 898
Rougheye rockfish | all | 1,284 (2009)
|  | 1,297 (2010)
Other rockfish | all | 1,730
Sablefish | all/trawl | 1,553 (2009)
|  | 1,439 (2010)
Big skates | all | 3,300
Longnose skates | all | 2,887
Other skates | all | 2,104
Pollock | all/offshore | unknown ¹
¹ Pollock is closed to directed fishing in the GOA by the offshore component under § 679.20(a)(6)(i).

Consequently, in accordance with § 679.20(d)(1)(i), the Regional Administrator establishes the DFA for the species or species groups listed in Table 26 as zero. Therefore, in accordance with § 679.20(d)(1)(iii), NMFS is prohibiting directed fishing for those species, areas, gear types, and components in the GOA listed in Table 26. These closures will remain in effect through 2400 hrs, A.l.t., December 31, 2010.

Section 679.64(b)(5) provides for management of AFA catcher vessel groundfish harvest limits and PSC bycatch limits using directed fishing closures and PSC closures according to procedures set out at § 679.20(d)(1)(iv), 679.21(d)(8), and 679.21(e)(3)(v). The Regional Administrator has determined that, in addition to the closures listed above, many of the non-exempt AFA catcher vessel sideboard limits listed in Tables 15 and 16 are necessary as incidental catch to support other anticipated groundfish fisheries for the 2009 and 2010 fishing years. In accordance with § 679.20(d)(1)(iv), the Regional Administrator sets the DFAs for the species and species groups in Table 27 at zero. Therefore, in accordance with § 679.20(d)(1)(iii), NMFS is prohibiting directed fishing by non-exempt AFA catcher vessels in the GOA for the species and specified areas set out in Table 27. These closures will remain in effect through 2400 hrs, A.l.t., December 31, 2010.

Table 27—2009 and 2010 Non-Exempt AFA Catcher Vessel Sideboard Directed Fishing Closures for All Gear Types in the GOA
[Amounts for incidental catch in other directed fisheries are in metric tons]
Species | Regulatory area/district | Incidental catch amount
Pacific cod | Eastern | 14 (inshore) and 2 (offshore) in 2009.
|  | 20 (inshore) and 2 (offshore) in 2010.
Deep-water flatfish | Western | 0.
Rex sole | Eastern and Western | 4 and 1.
Flathead sole | Eastern and Western | 4 and 7.
Arrowtooth flounder | Eastern and Western | 1 and 17.
Pacific ocean perch | Western | 9.
Northern rockfish | Western | 1.
Pelagic shelf rockfish | Entire GOA | 0 (W), 0 (C), 4 (E) in 2009.
|  | 0 (W), 0 (C), 3 (E) in 2010.
Demersal shelf rockfish | SEO District | 1.

Section 680.22 provides for the management of non-AFA crab vessel groundfish harvest limits using directed fishing closures in accordance with § 680.22(e)(2) and (3). The Regional Administrator has determined that the non-AFA crab vessel sideboards listed in Tables 18 and 19 are insufficient to support a directed fishery and set the sideboard DFA at zero, with the exception of Pacific cod in the Western and Central Regulatory Areas. Therefore, in accordance with § 680.22(e)(3), NMFS is prohibiting directed fishing by non-AFA crab vessels in the GOA for all species and species groups listed in Tables 18 and 19, with the exception of Pacific cod in the Western and Central Regulatory Areas.

Section 679.82 provides for the management of Rockfish Program sideboard limits using directed fishing closures in accordance with § 679.82(d)(7)(i) and (ii). The Regional Administrator has determined that the catcher vessel sideboards listed in Tables 20 and 21 are insufficient to support a directed fishery and set the sideboard DFA at zero. Therefore, NMFS is closing directed fishing for pelagic shelf rockfish and Pacific ocean perch in the WYK District and the Western Regulatory Area and for northern rockfish in the Western Regulatory Area by catcher vessels participating in the Central GOA Rockfish Program during the month of July in 2009 and 2010. These closures will remain in effect through 2400 hrs, A.l.t., December 31, 2010.

NMFS adjusted the 2009 TAC amounts for the GOA pollock and Pacific cod fisheries on January 5, 2009 (74 FR 233) because NMFS determined these TACs were incorrectly specified in the 2008 and 2009 GOA harvest specifications published February 27, 2008 (73 FR 10562). This adjustment will ensure the GOA pollock and Pacific cod TACs do not exceed the appropriate amounts, based on the best available scientific information for pollock and Pacific cod in the GOA. Closures implemented under the 2008 and 2009 Gulf of Alaska harvest specifications for groundfish (73 FR 10562, February 27, 2008) remain effective under authority of these final 2009 and 2010 harvest specifications, and are posted at the following Web sites: http://www.alaskafisheries.noaa.gov/index/infobulletins/infobulletins.asp?Yr=2009, and http://www.alaskafisheries.noaa.gov/2009/status.htm. While these closures are in effect, the maximum retainable amounts at § 679.20(e) and (f) apply at any time during a fishing trip. These closures to directed fishing are in addition to closures and prohibitions found in regulations at 50 CFR part 679. NMFS may implement other closures during the 2009 and 2010 fishing years as necessary for effective conservation and management.

Response to Comments

NMFS received one letter of comment (three comments) in response to the proposed 2009 and 2010 harvest specifications. These comments are summarized and responded to below.

Comment 1: NMFS administers the federal fisheries off Alaska for the benefit of a few Alaska fishermen, not for the benefit of the nation or all U.S. citizens.

Response: NMFS manages the Gulf of Alaska groundfish fisheries on behalf of all United States citizens, as well as on behalf of the commercial fishing industry. Companies involved in this industry are based in various states, including Alaska. The individuals participating in these fisheries reside in other states besides Alaska. NMFS's primary objective in the harvest specifications process is the conservation and management of fish resources for the Nation as a whole. The annual harvest specifications process is a key element to ensuring that Alaska fisheries are sustainably managed in a controlled and orderly manner.

Comment 2: Commercial fishing activities off of Alaska have an adverse and detrimental effect on marine mammals and other marine resources.

Response: The EIS prepared for the Alaska groundfish fisheries identified a preferred harvest strategy for groundfish and concluded that the preferred harvest strategy, under existing regulations, would have no lasting adverse impacts on marine mammals and other marine life. Further, pursuant to the Endangered Species Act, NMFS consults to ensure that federal actions, including this one, do not jeopardize the continued existence of any endangered or threatened marine mammal species. Additional protections for marine mammals are provided under the Marine Mammal Protection Act. Any taking of a marine mammal, such as harassment or shooting, is a violation and a potentially prosecutable offense.

Comment 3: Commercial fishing is killing off fish and other marine life to the point of extinction.

Response: As previously mentioned, the harvest specifications process is intended to foster conservation and management of marine resources. This process incorporates the best available scientific information from the most recent stock assessment and fisheries evaluation reports prepared by multi-disciplinary teams of scientists. Such reports contain the most recent scientific information on the condition of various groundfish stocks, as well as the condition of other ecosystem components. None of the NMFS-managed groundfish species off Alaska is overfished or subject to overfishing. The Council and NMFS annually respond to new developments in the natural environment as part of the harvest specifications process.

Classification

NMFS has determined that these final harvest specifications are consistent with the FMP and with the Magnuson-Stevens Act and other applicable laws.

This action is authorized under 50 CFR 679.20 and is exempt from review under Executive Order 12866.

NMFS prepared a Final EIS for the Alaska Groundfish Harvest Specifications and made it available to the public on January 12, 2007 (72 FR 1512). On February 13, 2007, NMFS issued the Record of Decision (ROD) for the Final EIS. In January 2009, NMFS prepared a Supplemental Information Report (SIR) for this action. Copies of the Final EIS, ROD, and SIR for this action are available from NMFS (see ADDRESSES). The Final EIS analyzes the environmental consequences of the groundfish harvest specifications and alternative harvest strategies on resources in the action area. The SIR evaluates the need to prepare a Supplemental EIS (SEIS) for the 2009 and 2010 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Administrator, Alaska Region, has determined that (1) approval of the 2009 and 2010 harvest specifications, which were set according to the preferred harvest strategy in the Final EIS, do not constitute a change in the action; and (2) there are no significant new circumstances or information relevant to environmental concerns and bearing on the action or its impacts. Additionally, the 2009 and 2010 harvest specifications will result in environmental impacts within the scope of those analyzed and disclosed in the Final EIS. Therefore, supplemental National Environmental Protection Act (NEPA) documentation is not necessary to implement the 2009 and 2010 harvest specifications.

The proposed harvest specifications were published in the Federal Register on December 2, 2008 (73 FR 73222). An Initial Regulatory Flexibility Analysis (IRFA) was prepared to evaluate the impacts on small entities of alternative harvest strategies for the groundfish fisheries in the Exclusive Economic Zone off Alaska on small entities. The public comment period ended on January 2, 2009. No comments were received regarding the IRFA or the economic impacts of this action. A Final Regulatory Flexibility Analysis (FRFA) was prepared that meets the statutory requirements of the Regulatory Flexibility Act of 1980, as amended by the Small Business Regulatory Enforcement Fairness Act of 1996 (5 U.S.C. 601-612). Copies of the IRFA and FRFA prepared for this action are available from NMFS, Alaska Region (see ADDRESSES).

Each year, NMFS promulgates a rule establishing the harvest specifications pursuant to the adopted harvest strategy. While the harvest specification numbers may change from year to year, the harvest strategy for establishing those numbers does not change. Therefore, the impacts discussed in the IRFA are essentially the same. NMFS considers the annual rulemakings establishing the harvest specification numbers to be a series of closely related rules stemming from the harvest strategy and representing one rule for purposes of the Regulatory Flexibility Act (5 U.S.C. 605(c)). A summary of the FRFA follows.

The action under consideration is a harvest strategy to govern the harvest of groundfish in the GOA. The preferred alternative is the status quo harvest strategy in which TACs fall within the range of ABCs recommended by the Council's harvest specifications process and TACs recommended by the Council. This action is taken in accordance with the FMP prepared by the Council pursuant to the Magnuson-Stevens Act.

The directly regulated small entities include approximately 747 small catcher vessels and fewer than 20 small catcher/processors. The entities directly regulated by this action are those that harvest groundfish in the EEZ of the GOA, and in parallel fisheries within State of Alaska waters. These include entities operating catcher vessels and catcher/processor vessels within the action area, and entities receiving direct allocations of groundfish. Catcher vessels and catcher/processors were considered to be small entities if they had annual gross receipts of $4 million per year or less from all economic activities, including the revenue of their affiliated operations. Data from 2005 were the most recent available to determine the number of small entities.

Estimates of first wholesale gross revenues for the GOA were used as indices of the potential impacts of the alternative harvest strategies on small entities. An index of revenues was projected to decline under the preferred alternative due to declines in ABCs for key species in the GOA. The index of revenues declined by less than 4 percent between 2007 and 2008 and by less than one percent between 2007 and 2009.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5 would have set TACs equal to zero. Alternative 5 is the (no action) alternative.

Alternatives 3, 4, and 5 were all associated with smaller levels for important fishery TACs than Alternative 2. Estimated total first wholesale gross revenues were used as an index of potential adverse impacts to small entities. As a consequence of the lower TAC levels, Alternatives 3, 4, and 5 all had smaller of these first wholesale revenue indices than Alternative 2. Thus, Alternatives 3, 4, and 5 had greater adverse impacts on small entities. Alternative 1 appeared to generate higher values of the gross revenue index for fishing operations in the GOA than Alternative 2. A large part of the Alternative 1 GOA revenue appears to be due to the assumption that the full Alternative 1 TAC would be harvested. This increased revenue is due to increases in flatfish TACs that were much higher for Alternative 1 than for Alternative 2. In recent years, halibut bycatch constraints in these fisheries have kept actual flatfish catches from reaching Alternative 1 levels. Therefore, a large part of the revenues associated with Alternative 1 is unlikely to occur. Also, Alternative 2 TACs are constrained by the ABCs the Plan Teams and SSC are likely to recommend to the Council on the basis of a full consideration of biological issues. These ABCs are often less than Alternative 1's maximum permissible ABCs. Therefore higher TACs under Alternative 1 may not be consistent with prudent biological management of the resource. For these reasons, Alternative 2 is the preferred alternative.

This action does not modify recordkeeping or reporting requirements, or duplicate, overlap, or conflict with any Federal rules.

Adverse impacts on marine mammals resulting from fishing activities conducted under this rule are discussed in the Final EIS (see ADDRESSES).

Pursuant to 5 U.S.C. 553(d)(3), the Assistant Administrator for Fisheries, NOAA, finds good cause to waive the 30-day delay in effectiveness for this rule. Plan Team review occurred in November 2008, and Council recommendations were not received until December 2008, so NMFS could not undertake review and development until January 2009. For all fisheries not currently closed because the TACs established under the 2008 and 2009 final harvest specifications (73 FR 10562, February 27, 2008) were not reached, the likely possibility exists that they will be closed prior to the expiration of a 30-day delayed effectiveness period because their TACs could be reached. Certain fisheries, such as those for pollock and Pacific cod are intensive, fast-paced fisheries. Other fisheries, such as those for flatfish, rockfish, and “other species,” are critical as directed fisheries and as incidental catch in other fisheries. U.S. fishing vessels have demonstrated the capacity to catch the TAC allocations in these fisheries. Any delay in allocating the final TACs in these fisheries would cause disruption to the industry and potential economic harm through unnecessary discards. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace.

If the final harvest specifications are not effective by March 21, 2009, which is the start of the 2009 Pacific halibut season as specified by the IPHC, the hook-and-line sablefish fishery will not begin concurrently with the Pacific halibut season. This would result in the needless discard of sablefish that are caught along with Pacific halibut as both hook-and-line sablefish and Pacific halibut are managed under the same IFQ program. Immediate effectiveness of the final 2009 and 2010 harvest specifications will allow the sablefish fishery to begin concurrently with the Pacific halibut season. Also, the immediate effectiveness of this action is required to provide consistent management and conservation of fishery resources based on the best available scientific information, and to give the fishing industry the earliest possible opportunity to plan its fishing operations. Therefore NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the 2009 and 2010 final harvest specifications and prohibited species bycatch allowances for the groundfish fisheries of the GOA. This action is necessary to establish harvest limits and associated management measures for groundfish during the 2009 and 2010 fishing years and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f), 1801 et seq.; 16 U.S.C. 3631 et seq.; Pub. L. 105-277; Pub. L. 106-31; Pub. L. 106-554; Pub. L. 108-199; Pub. L. 108-447; Pub. L. 109-241; Pub. L. 109-479.

Dated: February 9, 2009.
Samuel D. Rauch III,
Deputy Assistant Administrator for Regulatory Programs, National Marine Fisheries Service.

[FR Doc. E9-3295 Filed 2-13-09; 8:45 am]

BILLING CODE 3510-22-P